DEPARTMENT OF LABOR

Veterans' Employment and Training Service

Honoring Investments in Recruiting and Employing (HIRE) Vets Medallion Program—Announcement of HIRE Vets Medallion Award Recipients

AGENCY: Veterans' Employment and Training Service (VETS), Department of Labor.

ACTION: Notice.

SUMMARY: In a ceremony announcing the recipients of the 2023 HIRE Vets Medallion Awards, the Department of Labor (Department) recognized a select group of veteran-ready employers for excellence in recruiting, employing, and retaining America's veterans. The employers honored by the Department on November 8, 2023, include small businesses, nonprofit organizations, and national corporations. Recipients receive an award certificate along with a digital image of the medallion for their use, including as part of an advertisement, solicitation, business activity, or product. The awards are conferred in six categories, based on the size of the employer (small, medium, or large) and what level of criteria their application met (platinum or gold). This action announces the recipients of the 2023 and 2022 HIRE Vets Medallion Awards.

FOR FURTHER INFORMATION CONTACT: Randall Smith, Veterans' Employment and Training Service, U.S. Department of Labor, Room S-1325, 200 Constitution Avenue NW, Washington, DC 20210, email: HIREVets@dol.gov, telephone: (202) 693-4745 or TTY (877) 889-5627 (these are not toll-free numbers). For press inquiries, contact Bennett Gamble, Office of Public Affairs, U.S. Department of Labor, 200 Constitution Avenue NW, Room S-1032, Washington, DC 20210, email: gamble.bennett@dol.gov, telephone: (202) 693-6587 (this is not a toll-free number).

SUPPLEMENTARY INFORMATION:

The HIRE Vets Medallion Awards are authorized by the Honoring Investments in Recruiting and Employing American Military Veterans Act of 2017 (HIRE Vets Act), enacted on May 5, 2017, as Division O of the Consolidated Appropriations Act, 2017, Public Law 115-31, 131 Stat. 838. The Department codified the HIRE Vets Act's requirements through regulations found at 20 CFR part 1011 ¹ and an information collection containing the application forms.² This notice is required by section 2(b)(4)(B) of the HIRE Vets Act and the regulation at 20 CFR 1011.200(d)(2).

¹ For the final rule adopting these regulations, see 82 FR 52186 (Nov. 13, 2017).

² For the information collection and related documents, see OMB Control No. 1293-0015.

VETS received 864 applications for the HIRE Vets Medallion Award in 2023. Among the 864 applications, the Secretary of Labor approved 859 applications for award, with 3 applications denied and 2 applications withdrawn by the applicant. Of the 859 applications approved for award, the breakdown by award type is as follows: 246 small gold (SG), 147 small platinum (SP), 223 medium gold (MG), 153 medium platinum (MP), 71 large gold (LG), and 19 large platinum (LP).

The following list shows the 859 recipients for 2023 in alphabetical order by employer name, along with their doing business as (DBA) name (as applicable), state or territory and city, and award type.³ For more information about the program, including award criteria, key dates, and applicant resources, visit https://www.hirevets.gov.

³ Employer Name and DBA edited as appropriate; VETS is not responsible for any typographical errors.

Employer name | DBA | City | State/ terr. | Award type
34ED LLC | Centegix | Atlanta | GA | MG
7G Environmental Compliance Management |  | Tallahassee | FL | MG
8-koi | 8-koi | Melbourne | FL | MP
A&M Transport, LLC | A&M Transport | Glendale | OR | MP
A2 Supply Chain Services LLC | Restoration 1 of Metro Detroit | Ann Arbor | MI | SP
Abile Group, Inc |  | Harwood | MD | MP
ABML, LLC | AshBritt | Deerfield Beach | FL | SP
Abundant Healing LLC |  | Greensboro | NC | SG
Acato Information Management, LLC |  | Oak Ridge | TN | SG
ACCIONA Energy USA Global LLC |  | Chicago | IL | MG
Acclaim Technical Services, LLC | ATS ESOP Holdings, Inc | Reston | VA | MG
AcqCentric, Inc |  | Huntsville | AL | SG
Actualized Business Solutions, Inc | ABSI Aerospace & Defense | California | MD | SP
Adapt Forward LLC | Adapt Forward LLC | North Charleston | SC | MG
Adaptive Construction Solutions |  | Houston | TX | MP
Advanced IT Concepts, Inc |  | Orlando | FL | MG
Advanced Management Strategies Group Inc | AMSG | Dumfries | VA | MG
Advanced Technology International | ATI | Summerville | SC | MG
Advanced Technology Leaders, Inc | Advanced Technology Leaders, Inc | Martinez | GA | MG
AES BUILDING SERVICES, LLC |  | Akron | OH | SG
Agility Federal LLC |  | Phoenix | AZ | SP
Agility mfg |  | Dover | NH | SG
AGS LLC |  | Las Vegas | NV | LG
Air Combat Effectiveness Consulting Group, LLC | ACE Consulting Group, LLC | Lexington Park | MD | MG
Air Liquide USA LLC |  | Houston | TX | LP
Air Quality Solutions Heating and Cooling |  | Grove City | OH | SP
Alaska Joint Electrical Apprenticeship and Training Trust |  | Anchorage | AK | MG
Aldevra LLC | Aldevra LLC | Kalamazoo | MI | SG
All In Solutions, LLC |  | Fredericksburg | VA | MG
Allegient Defense, Inc |  | Arlington | VA | MG
ALLO Communications | ALLO Communications | Lincoln | NE | LP
Alluvionic Inc |  | Melbourne | FL | SP
ALLY Construction Services | ALLY Construction Services LLC | Bensalem | PA | SP
AM General LLC | AM General LLC | South Bend | IN | LG
America Works of California, Inc | America Works of California, Inc | San Francisco | CA | SG
America Works of Illinois, Inc | America Works of Illinois, Inc | Chicago | IL | SG
America Works of Tennessee, Inc | America Works of Tennessee, Inc | Memphis | TN | SG
American States Utility Services, Inc | ASUS | San Dimas | CA | MP
AMERICAN SYSTEMS |  | Chantilly | VA | LG
American Veteran Solutions, Inc |  | Las Vegas | NV | MP
America's Warrior Partnership |  | Augusta | GA | SP
AmeriVet Securities, Inc |  | New York | NY | SP
Ametrine, Inc |  | Round Rock | TX | SP
Amphenol Borisch Technologies |  | Grand Rapids | MI | MG
ANALYGENCE, Inc |  | Fulton | MD | MG
Ankobia Group LLC |  | South Fulton | GA | SG
Antean Technology LLC |  | Alexandria | VA | SG
Antech Systems, Inc |  | Chesapeake | VA | MG
Apogee Solutions, Inc |  | Chesapeake | VA | MG
Applied Materials |  | Santa Clara | CA | LG
A-P-T Research, Inc |  | Huntsville | AL | MP
Aptive Resources |  | Alexandria | VA | MP
APVantage, LLC |  | Webster | TX | SP
Aquatic World of North Syracuse Inc |  | North Syracuse | NY | SG
Arbinger Institute, LLC |  | Farmington | UT | MG
ArcBest | ArcBest | Fort Smith | AR | LG
Area X Cyber Solutions LLC |  | Dumfries | VA | SG
ArgenTech Solutions |  | Newmarket | NH | MG
Armcorp Construction, Inc |  | Celina | OH | SP
ARServices, Limited |  | Falls Church | VA | MP
Arsiem Corporation | Arsiem Corporation | Baltimore | MD | MG
Artemis Electronics, LLC |  | Prospect | KY | SG
Asheville Buncombe Community Christian Ministries—Veterans Services of the Carolinas | ABBCM | Asheville | NC | MG
ASJ IT Services, LLC | ASJ Solutions | Chesapeake | VA | SG
Assertic LLC |  | Chicago | IL | SP
Assertive Professionals |  | Southern Pines | NC | SP
Assured Consulting Solutions, LLC |  | Reston | VA | MP
Assured Information Security |  | Rome | NY | MG
ATeam Solution Services |  | Miami Beach | FL | SP
Atec, Inc | Atec, Inc | Stafford | TX | MP
ATECH, INC |  | Nashville | TN | MG
Atlanta Compressor LLC | Atlanta Compressor LLC | Hoschton | GA | SG
Atlas Sand Company, LLC | Atlas Energy Solutions | Austin | TX | MP
Atlas Technologies, Inc | Atlas Tech | North Charleston | SC | MG
Atriax, PLLC | Atriax PLLC | Hickory | NC | SP
Attollo, LLC |  | New Bern | NC | SP
Aunty's Place Early Learning & Child Care Center, LLC |  | Auburn | WA | SG
AutoBase Inc |  | Amityville | NY | MP
AVIAN |  | Lexington Park | MD | MG
Aviate Enterprises, Inc |  | McClellan | CA | SP
Axiom Resource Management, Inc |  | Falls Church | VA | MG
Azimuth Corporation |  | Beavercreek | OH | MP
Banner Defense, Inc |  | Madison | AL | SP
Barnett Engineering & Signaling Laboratories LLC | BESL | Colorado Springs | CO | SP
Battelle Energy Alliance | Idaho National Laboratory | Idaho Falls | ID | LG
Bayaud Enterprises, Inc | Bayaud Enterprises, Inc | Denver | CO | MG
Beast Code LLC |  | Fort Walton Beach | FL | MG
Beeline Tours Ltd |  | Seattle | WA | SG
Bell Textron Inc |  | Fort Worth | TX | LG
Bernie's Plumbing and Heating, Co | Bernie's Plumbing and Heating, Co | Boulder | CO | SG
Berry Law, P.C., L.L.O |  | Lincoln | NE | MG
Beshenich Muir & Associates | Beshenich Muir & Associates | Huntsville | AL | MG
BEST VERSION Of YOURSELF PSYCHOLOGY LLC |  | Henderson | NV | SP
Betis Group, Inc |  | McLean | VA | SP
Between Two Trees Inc | JDog Junk removal & Hauling | Post Falls | ID | SG
BGIS |  | Seattle | WA | LG
Big Ideas Inc |  | New Ulm | MN | SP
Bison Health, LLC | Bison Health | Las Vegas | NV | SG
Black Bear Technology Solutions, LLC |  | Alexandria | VA | SP
Black Hills Service Company LLC | Black Hills Energy | Rapid City | SD | LP
Blake Willson Group, LLC |  | Arlington | VA | MG
BLOKWORX, LLC |  | Reno | NV | SG
Blue Star Families, Inc | Blue Star Families, Inc | Encinitas | CA | MP
BluePath Labs LLC |  | Washington | DC | SP
Bluestaq |  | Colorado Springs | CO | MG
Boingo Wireless, Inc |  | Los Angeles | CA | MG
Booz Allen Hamilton | Booz Allen Hamilton | McLean | VA | LP
Boston Fusion Corp |  | Lexington | MA | SG
Boston Government Services |  | Oak Ridge | TN | MG
Brightstar Innovations Group, LLC |  | Arlington | VA | SG
Bullen Ultrasonics |  | Eaton | OH | MG
BWJ Metalworks, LLC |  | Abilene | TX | MG
C & G Consulting, Inc |  | Manassas Park | VA | SG
C2C LLC |  | Chesterfield | MO | SP
C4 Planning Solutions, LLC |  | Blythe | GA | MG
Caddell Construction Co. (DE) LLC | Caddell Construction | Montgomery | AL | MG
CAE USA INC |  | Tampa | FL | LP
Caladwich Consulting, LLC |  | Annandale | VA | SP
Calvert Systems Engineering Inc | Calvert Systems Engineering Inc | Bellevue | NE | MG
Cambridge International Systems, Inc |  | Arlington | VA | MG
CANA LLC | CANA Advisors LLC | Gainesville | VA | SG
Canadian Valley Electric Cooperative, Inc |  | Seminole | OK | MG
Candace Howell Insurance Agency Incorporated |  | Fayetteville | NC | SG
Cantrell-Gainco Group |  | Gainesville | GA | MG
Career Learning & Employment Center for Veterans, Inc | Operation: Job Ready Veterans (OJRV) | Indianapolis | IN | SP
Career Systems Development Corporation | Penobscot Job Corps Center | Bangor | ME | MG
CareerSource Pinellas |  | Clearwater | FL | MG
Carter Machinery Co Inc |  | Salem | VA | LG
Cascade Environmental | Cascade Drilling | Bothell | WA | LG
Casilo Consulting, LLC | Vector Services | Collinsville | IL | MP
Cassidy Consulting Group/C2G | CASSIDY CONSULTING GROUP (DBA C2G) | Naples | FL | SG
Castalia Systems LLC |  | Tampa | FL | MG
Castle Hill Associates, LLC |  | Waterville | OH | SG
Catalyst Technical Consulting Group, LLC |  | Crown Point | IN | SG
Caylor Equipment Services LLC |  | Jupiter | FL | SG
Cayuse Holdings, LLC |  | Pendleton | OR | LP
CB Design Group |  | Alexandria | VA | SP
Celerity Government Solutions,LLC | Xcelerate Solutions | McLean | VA | MG
Central Texas Workforce Development Board, Inc | Workforce Solutions of Central Texas | Belton | TX | MP
Check-6 Inc |  | Tulsa | OK | MP
Chenega Corporation |  | Anchorage | AK | LG
Cincinnati Incorporated | Cincinnati Incorporated | Harrison | OH | MP
Cintel Inc | Cintel Inc | Huntsville | AL | MG
Circle Computer Resources | Circle Computer Resources | Cedar Rapids | IA | MP
Circuit Media LLC |  | Denver | CO | MP
Citizens Development Center dba U&I | U&I | Dallas | TX | SG
City of Alpharetta | City of Alpharetta | Alpharetta | GA | MG
City of Cape Canaveral |  | Cape Canaveral | FL | MP
City of Cedar Hill |  | Cedar Hill | TX | MG
City of Harker Heights |  | Harker Heights | TX | MG
City of Quincy | City of Quincy | Quincy | IL | MG
City of St. Charles |  | St Charles | IL | MG
City of Treasure Island |  | Treasure Island | FL | MG
City of Westbrook |  | Westbrook | ME | MG
Clarklift of Des Moines, Inc | Forklifts of Des Moines | Des Moines | IA | SG
Clear Resolution Consulting, LLC |  | Baltimore | MD | MG
Client First Technologies, Inc |  | Fairfax | VA | MP
CloudWyze, Inc |  | Wilmington | NC | SP
CMS Corporation | CMS Corporation | Maumee | OH | MP
Coalfire Systems Inc |  | Greenwood Village | CO | LG
Cognitive Medical Systems, Inc |  | San Diego | CA | SG
Cognosante, LLC |  | Falls Church | VA | LG
Col. David L. Frederick (Ret) | Facilities Development Corporation (FDC) | Reston | VA | SG
Colorado Springs Sheet Metal JATC |  | Colorado Springs | CO | MP
Colossal Contracting, LLC |  | Annapolis | MD | MP
Command Holdings, a Pequot Company | Command Holdings, a Pequot Company | Ledyard | CT | MG
Community Security Services, LLC | CSSI | Mobile | AL | MG
Compendium Federal Technology LLC |  | Lexington Park | MD | SP
COMSETRA LLC |  | Jay | OK | SG
COMSO, Inc |  | Columbia | MD | MG
Conceras, LLC |  | Fairfax | VA | SP
Concord Crossroads, LLC |  | Dumfries | VA | SG
Concordant, LLC |  | Laramie | WY | SP
CONCORDE JET CENTER |  | Brunswick | ME | SG
Conditioned Air Company of Naples LLC |  | Naples | FL | MG
Conflict Kinetics | Conflict Kinetics | Sterling | VA | SG
Connectria, LLC |  | St. Louis | MO | MG
Consolidated Nuclear Security, LLC | Y-12 National Security Complex | Oak Ridge | TN | LG
Constellation Software Engineering LLC | CSEngineering, LLC | Annapolis | MD | MG
Constellation West | Constellation West | Bellevue | NE | MG
Construction Services Group, Inc |  | Charleston | SC | SP
Contracting Resources Group, Inc |  | Baltimore | MD | MP
Convergint Technologies LLC | Convergint | Schaumburg | IL | LG
Converse Construction, Inc |  | Redding | CA | SP
Converse Electric |  | Grove CIty | OH | MG
Core Government Services (CGS) |  | Purcellville | VA | SG
Core4ce, LLC |  | Reston | VA | MG
Corporate America Supports You (CASY) | VetJobs | Fort Myers | FL | MP
Corps Solutions, LLC |  | Stafford | VA | MG
Cortina Solutions, LLC |  | Huntsville | AL | SG
CoSolutions, Inc |  | Sterling | VA | MG
Covered 6 LLC |  | Moorpark | CA | MG
CP Marine, LLC dba CPMG, LLC |  | Juneau | VA | SP
CPMC, LLC | CPMC, LLC | Tysons Corner | VA | SG
CPS Professional Services, LLC | CATHEXIS | Falls Church | VA | MG
Crane Inspection & Certification Bureau |  | Houston | TX | SP
Criterion Systems, LLC, a Cherokee Federal Company |  | VIENNA | VA | MP
CriticalCxE Inc | Critical CxE Inc | Annapolis | MD | SP
Cromulence LLC |  | Melbourne | FL | SG
CROSSWORKS TECHNOLOGIES, INC |  | Orlando | FL | SG
Cruz Associates, Inc |  | Yorktown | VA | MP
CSA | CSA LLC | Virginia Beach | VA | LG
CTI Resource Management Services, Inc | CTI Resource Management Services, Inc | Jacksonville | FL | MG
CymSTAR Services, LLC | CymSTAR Services, LLC | Broken Arrow | OK | MG
CymSTAR, LLC | CymSTAR, LLC | Broken Arrow | OK | MG
DAGER Technology, LLC |  | Fairfax | VA | SG
Dassault Aircraft Services Reno |  | Reno | NV | SG
Data Center Solutions, Inc | DCS Data Centers | Annapolis | MD | SP
Dauntless Wine Company |  | Forest Grove | OR | SG
Davis Agency LLC |  | Federal Way | WA | SP
DCO Operations, LLC |  | Lawrenceville | NJ | MP
DD DANNAR, LLC | DANNAR | Muncie | IN | SG
Decision Technologies, Inc |  | Arlington | VA | MG
Decisve Point Consulting Group, LLC |  | Waco | TX | MG
Deer Brook Consulting |  | North Yarmouth | ME | SG
DefendEdge OC LLC | DefendEdge | Glen Ellyn | IL | SP
Defense Contracting, Inc | DCI Solutions | Aberdeen Proving Ground | MD | MP
Delmarva Veteran Builders, LLC |  | Salisbury | MD | SG
DELTACON GLOBAL INC |  | Sugarland | TX | SP
DEMCO Enterprises, Inc | DEMCO AUTOMATION | Quakertown | PA | SG
Devotion Hospice | Devotion Hospice | Conroe | TX | MG
DIGITAL GLOB AL CONNECTORS, LLC |  | McLean | VA | SG
Dillon Transportation |  | Ashland City | TN | MG
Diplomat Construction & Demolition, Inc | Diplomat Demolition | West Chester | PA | MG
DirectViz Solutions, LLC |  | Vienna | VA | MG
Dixon Management Group LLC | SERVPRO of Belle Meade | Nashville | TN | SG
DK & R Corp |  | Henderson | NV | SP
DLB Associates | DLB Associates | Neptune City | NJ | MP
Dorrean, LLC | Dorrean, LLC | Reston | VA | MG
Dotts Group LLC |  | Downingtown | PA | SG
Draken International LLC |  | Lakeland | FL | MP
Drexel Hamilton, LLC | Drexel Hamilton, LLC | New York | NY | SG
DroneShield LLC |  | Warrenton | VA | SG
DSoft Technology Company | DSoft Technology, Engineering & Analysis, Inc | Colorado Springs | CO | SG
DVL Group, Inc |  | Bristol | PA | MG
DWBH, LLC | DWBHCORP | Arlington | VA | SG
Eagle Systems, Inc |  | California | MD | MG
EARLY SERVICES INC |  | Decatur | AL | SG
Earnest Construction Company |  | San Antonio | TX | SG
Eastern Carolina Vocational Center, Inc (ECVC) |  | Greenville | NC | MG
Easterseals Redwood Military & Veteran Services |  | Cincinnati | OH | SG
Echo Five Group |  | Arlington | VA | SP
EGS Inc | Empowered Global Solutions | Englewood | CO | MG
Electric Power Systems International, Inc |  | Maryland Heights | MO | LG
Electrical Test Instruments, LLC | ETI Precision | Frederick | MD | SP
Eljen Corporation |  | Windsor | CT | SP
ELYON International, Inc |  | Vancouver | WA | MG
EM Key Solutions, Inc |  | St. Petersburg | FL | SP
EMD Electronics | EMD Electronics | Austin | TX | MP
EMD LLC |  | Woodbridge | VA | SG
Employment Source, Inc | ServiceSource, Inc | Fayetteville | NC | MG
Energy Systems Group, LLC |  | Newburgh | IN | MG
Enhanced Veterans Solutions, Inc |  | Fairfax | VA | MG
ENSCO Rail, Inc |  | Springfield | VA | MG
ENSCO, Inc |  | Springfield | VA | LG
Entegrity Consulting Group |  | Dayton | OH | SP
Entergy Corporation |  | New Orleans | LA | LG
Environet Inc |  | Honolulu | HI | SG
Environmental Chemical Corporation |  | Burlingame | CA | MP
EolianVR Inc |  | Largo | FL | SG
Epigen Technology Corp |  | McLean | VA | SG
EPS Corporation |  | Tinton Falls | NJ | MP
EquipmentShare.com | EquipmentShare | Columbia | MO | LG
Erie Industrial Products |  | Oberlin | OH | SG
Eskridge Enterprises LLC | Eskridge & Associates | Round Rock | TX | SP
Ever-Green Energy, Inc |  | Saint Paul | MN | MG
Evergreen Fire Alarms, LLC | Evergreen Fire and Security | Tacoma | WA | MG
Eversource Energy |  | Hartford | CT | LG
Exact Staff, Inc |  | Calabasas | CA | MG
Excalibur Legal Staffing LLC | The Excalibur Group | Washington | DC | SG
Excentium, Inc |  | Reston | VA | SP
Exceptional Employees for Exceptional Results Inc | E3R, Inc | El Cajon | CA | MP
Executive Airborne Solutions, Inc |  | Bellevue | NE | SP
EXPANSIA Group LLC | EXPANSIA | Nashua | NH | MP
Expeditionary Technology Services INC | Expeditionary Technology Services INC | Atlanta | GA | SP
Explosive Countermeasures International, Inc | ECI | Delaplane | VA | SG
F3EA, Inc |  | Savannah | GA | MG
FASTPORT, Inc | FASTPORT, Inc | Valparaiso | IN | SG
Federal Practice Group | Federal Practice Group | Washington | DC | SG
Federal Strategies LLC |  | Fredericksburg | VA | SP
Feith Systems and Software, Inc | Feith Systems | Fort Washington | PA | MP
Fireside Partners, Inc |  | Dover | DE | SG
First Nation Group, LLC |  | Niceville | FL | MP
Five Star Global Security LLC |  | Fayetteville | NC | SG
Flagship Management, LLC |  | Bristol | PA | MG
Florida Institute for Human & Machine Cognition |  | Pensacola | FL | MG
Florida is for Veterans, Inc | Veterans Florida | Tallahassee | FL | SG
Flux Resources, LLC |  | Tigard | OR | MG
Foley, Incorporated |  | Piscataway | NJ | LG
Fontaine Consulting, LLC |  | East Moline | IL | SP
Forge Institute |  | Little Rock | AR | SP
Forte Health and Wellness, Inc |  | Denver | CO | SP
FourFront Design, Inc |  | Rapid City | SD | SG
Frontier Market Solutions | Ravenox | Mount Vernon | WA | SG
Fusion Cell LLC |  | Windham | NH | SP
Gannon & Scott Phoenix, Inc | Gannon & Scott | Phoenix | AZ | SG
Gary R Banks Industrial Group |  | West Berlin | NJ | SG
Gauss Management Research and Engineering GMRE, Inc |  | South Ogden | UT | MG
GC LOGISTICS |  | Ridgeland | MS | SP
GCubed Enterprises Inc | GCubed, Inc | Stafford | VA | SP
GDM of Oregon |  | Bingen | WA | SG
GeekFindrz LLC | MOMENTUM | Huntsville | AL | SG
General Dynamics Mission Systems | General Dynamics Mission Systems | Fairfax | VA | LG
General Dynamics NASSCO—Norfolk | General Dynamics NASSCO—Norfolk | Norfolk | VA | MP
General Electric Company | GE Aerospace | Evendale | OH | LG
General Infomatics, Inc | GI | McLean | VA | MG
GenTech Associates Inc |  | Indianapolis | IN | MG
Global Business Solutions, LLC | GBSI | Pensacola | FL | SG
Global Security Services IA |  | Davenport | IA | MP
Global Skills Exchange Corporation | GSX, Global Skills X-Change | Alexandria | VA | SG
Global Technology & Management Resources, Inc | GTMR, Inc | Hollywood | MD | MG
GLOTECH, Inc |  | Rockville | MD | MP
Go Energistics |  | Dallas | RI | SG
Goldbelt Apex |  | Herndon | VA | MG
Goldbelt C6, LLC |  | Chesapeake | VA | MP
Goldbelt Falcon, LLC |  | Chesapeake | VA | MP
Goldbelt Frontier, LLC |  | Alexandria | VA | MG
Goldbelt Glacier Health Services, LLC |  | Herndon | VA | MG
Goldbelt Hawk, LLC |  | Newport News | VA | MP
Goldbelt Incorporated |  | Juneau | AK | MP
Goldbelt Integrated Logistics Services |  | Chesapeake | VA | SG
Goldbelt Nighthawk, LLC |  | Newport News | VA | SP
Goldbelt Operations Support Services |  | Herndon | VA | SP
Goldbelt Professional Services |  | Chesapeake | VA | MP
Goldbelt Security, LLC |  | Juneau | AK | SP
Golden Key Group |  | Reston | VA | MG
Gotham Government Services |  | Haymarket | VA | SG
Government Tactical Solutions |  | Vienna | VA | MP
Green Expert Technology Inc |  | Haddonfield | NJ | MG
GSI Service Group Inc |  | Honolulu | HI | MG
Guardian Angels Medical Service Dogs, Inc | Guardian Angels Medical Service Dogs | Williston | FL | SG
H2 Performance Consulting Corp |  | Gulf Breeze | FL | MP
H2L Solutions, Inc |  | Huntsville | AL | MP
Hancock Resource Center |  | Waveland | MS | SG
Harvard Integrations |  | Tea | SD | MG
Hawkeye Tracking Inc |  | Lexington Park | MD | SG
HazAir, Inc | HazAir, Inc | Henderson | NV | SG
Haze Gray Vineyards LLC |  | Dobson | NC | SP
HD Dog Training Llc |  | Bensalem | PA | SG
Heptagon Information Technology, LLC |  | Montgomery | AL | SP
Herc Rentals |  | Bonita Springs | FL | LG
Hernandez Consulting & Construction LLC | Hernandez Consulting & Construction | New Orleans | LA | MP
HHO Carbon Clean Systems, LL | HHO Carbon Clean Systems, LL | Paducah | KY | SG
High Order Solutions, LLC |  | Frisco | TX | SG
HigherEchelon, Inc |  | Huntsville | AL | MP
Highland Engineering, Inc |  | Howell | MI | SG
HII |  | Newport News | VA | LG
Hilliard Division of Police | Hilliard Division of Police | Hilliard | OH | MG
HM Cragg |  | Edina | MN | MG
Hope For The Warriors |  | Springfield | VA | MG
Hudgins Contracting Corp |  | Hampton | VA | SG
HudsonAnalytix, Inc | HudsonAnalytix, Inc | Cherry Hill | NJ | SG
Huot Construction & Services | Huot Construction & Services | South St. Paul | MN | SG
HurtVet Subcontracting, LLC |  | Park City | UT | SP
Hydro Vac Services | GroundBreakers LLC | Indianapolis | IN | SG
HZ Construction Inc | Not Applicable | Orlando | FL | SG
Iberia Advisory, LLC |  | Washington | DC | SP
Iconicx Critical Solutions, LLC |  | Amsterdam | NY | MP
IDEA HELIX INC |  | Fremont | CA | SG
IMPERIAL AUTO AND TRUCK SERVICE | LYLOKI LLC | Henderson | NV | SG
INDEPENDENCE HYDROGEN |  | Ashburn | VA | SP
Indigo IT, LLC | Indigo IT, LLC | Herndon | VA | MP
Industrial Packaging Supplies, Inc | IPS Packaging & Automation | Fountain Inn | SC | MP
Infinity Systems Engineering |  | Colorado Springs | CO | MP
Infinity Technology Services, LLC | ITS, LLC | Colorado Springs | CO | MP
Information Management Group Inc | IMG | Fairfax | VA | MG
Insignia Technology Services | 9th Way Insignia | Ashburn | VA | MP
Inspired Solutions, Inc |  | Manassas | VA | SG
Integration Innovation, Inc | i3 | Huntsville | AL | LG
Integrity Consulting Engineering and Security Solutions (ICESS) |  | Purcellville | VA | SG
IntelliDyne, LLC |  | Falls Church | VA | MG
intelliSolutions, Inc |  | San Diego | CA | SP
IntePros Federal |  | Washington | DC | MG
Interactive Government Holdings, Inc |  | Springfield | VA | MP
InterImage, Inc | InterImage, Inc | Arlington | VA | SG
International Controls Systems, Inc |  | Littleton | CO | SG
International Training Fund |  | Annapolis | MD | LP
Intrepid |  | Huntsville | AL | MG
Intrepid Solutions and Services, LLC |  | Herndon | VA | MG
Invenergy |  | Chicago | IL | LG
Invnetus LLC |  | Greer | SC | SG
iostudio, LLC | iostudio, LLC | Nashville | TN | MP
Ipsolon Research, Inc |  | Frederick | MD | SG
IPT Associates | IPTA | Burlington | MA | MP
IronMountain Solutions, Inc |  | Huntsville | AL | MP
IRONWORKERS LOCAL UNION #399 JATC | IRONWORKERS LOCAL UNION #399 JATC | Hammonton | NJ | SG
IT Concepts, Inc |  | Vienna | VA | MG
IT Veterans, LLC | IT Veterans, LLC | Herndon | VA | SP
Itero Group, LLC |  | New Cumberland | PA | MG
Jackson Ryan Construction Services, Inc |  | Suffield | CT | SG
Janissary, LLC |  | Houston | TX | MP
JANUS Research Group, LLC |  | Evans | GA | LG
Jay & Kay Mfg. LLC |  | Croswell | MI | SP
JB Management Inc |  | Alexandria | VA | MP
JBM Energy Solutions, LLC |  | Lawrenceville | NJ | SG
JCTM LLC |  | Charlotte | NC | MP
JGMS Government Services, LLC |  | Grand Junction | CO | MP
Jingoli Nuclear Services, LLC |  | Lawrenceville | NJ | SG
Jingoli Power, LLC |  | Lawrenceville | NJ | MP
JIT Staffing LLC | Just In Tine Staffing | Round Rock | TX | SP
John H. Northrop & Associates, Inc | JHNA | Clifton | VA | MG
Jovian Concepts, Inc |  | Hanover | MD | MG
JR Kays Trucking Inc |  | Clarendon | PA | SP
JTEC Consulting LLC |  | Decatur | GA | SG
JVC Enterprises LLC |  | Byron Center | MI | SG
JVS SoCal |  | Los Angeles | CA | MG
KaDSci, LLC |  | Fairfax | VA | SP
Kaiva Services, LLC |  | Tulsa | OK | SG
Kalman & Company, Inc |  | Virginia Beach | VA | MG
KASTELLUM Group, LLC |  | Odessa | FL | MG
Kegman Inc | Kegman Inc. | Melbourne | FL | SG
Kent, Campa and Kate (KCK) Inc |  | Arlington | VA | SP
Kentco Corporation | ProteQ | Hendon | VA | SG
Keystone Fire & Security |  | North Wales | PA | MG
Kilda Group LLC |  | Severna Park | MD | SG
Kingfisher Systems, Inc |  | Falls Church | VA | MG
Kingsky Flight Academy | Kingsky Flight Academy | Lakeland | FL | SG
KIRSH Helmets, Inc | KIRSH Helmets, Inc | Schenectady | NY | SG
Kizano Corp |  | Woodbridge | VA | SP
Knight Federal Solutions Inc |  | Orlando | FL | MP
Knowesis Inc |  | Fairfax | VA | MP
Kolme Group, LLC |  | Phoenix | AZ | SP
Korn Ferry Professional Search (US) |  | Los Angeles | CA | LG
KSA Integration LLC |  | Stafford | VA | SP
Kwest Group LLC | Kwest Group | Perrysburg | OH | MP
LaunchTech, LLC |  | Huntsville | AL | SG
LAZARUS ALLIANCE, INC | LAZARUS ALLIANCE, INC | Scottsdale | AZ | SP
Legato, LLC |  | Columbia | MD | SP
Leidos |  | Reston | VA | LG
Leonardo DRS, Inc |  | Arlington | VA | LG
Liberty Business Associates, LLC |  | Ladson | SC | MG
Life Cycle Engineering |  | Charleston | SC | MP
LinQuest Corporation |  | Herndon | VA | LG
Lockheed Martin |  | Bethesda | MD | LP
LockLeed International |  | Blaine | MN | SP
Lodestar Consulting, Inc |  | Charlotte | NC | MP
Long Capture & Contract Management LLC |  | Colorado Springs | CO | SP
Los Alamos National Laboratory |  | Los Alamos | NM | LG
Louisiana Energy Services LLC, d/b/a. URENCO USA | URENCO USA | Eunice | NM | MG
LRS Federal LLC |  | Severna Park | MD | SP
LTC Solutions |  | Stafford | VA | SG
LUKOS LLC | LUKOS LLC | Tampa | FL | MP
Lynch Consultants, LLC | Lynch Consultants | Arlington | VA | MP
M Dean Owen, CPA, PSC | M Dean Owen, CPA, PSC | Paducah | KY | SG
Maggie's Outreach Community Economic Development Center | Non-Profit | Raeford | NC | SG
Mainsail Group LLC | Mainsail Group LLC | Bedford | MA | MG
ManTech International Corp | ManTech | Herndon | VA | LG
Marand US Holdings LLC |  | Fort Worth | TX | SG
Mark My words LLC | Walker Bookstore | Tempe | AZ | SP
Mark Ronning LLC | Northwest Veterans Law | Salem | OR | SP
Markon, LLC | Markon Solutions, An Anser Advisory Company | Falls Church | VA | MP
Martinfederal Consulting, LLC |  | Huntsville | AL | MP
Matrix Business Concepts, LLC |  | Concord | NH | MG
Maveris, LLC | Maveris | Martinsburg | WV | MP
Mb Solutions, Inc |  | Huntsville | AL | MP
Memphis-Shelby County Schools |  | Memphis | TN | LG
Mesa Natural Gas Solutions |  | Loveland | CO | MP
Messer North America, Inc | Messer North America, Inc | Bridgewater | NJ | LG
Metis Technology Solutions, Inc |  | Albuquerque | NM | MP
Mfinite Consulting LLC |  | Severn | MD | SG
Michaels Stores, Inc | Michaels Stores Inc | Irving | TX | LG
Micron Technology |  | Boise | ID | LP
MidAmerican Energy Company |  | Des Moines | IA | LG
MIKROPOR AMERICA INC |  | Michigan City | IN | SP
Miles Technology Solutions LLC | Miles Enterprise Solutions | Charlotte | NC | SG
Military Officers Association of America | MOAA | Alexandria | VA | MP
MILLENNIUM CORPORATION |  | Arlington | VA | MG
Mischler Financial Group |  | Corona del Mar | CA | MP
Mission1st Group Inc |  | Arlington | VA | MP
MIT Lincoln Laboratory | MIT Lincoln Laboratory | Lexington | MA | LG
Mitchell Technical College | Mitchell Technical College | Mitchell | SD | MG
Monte Sano Research Corporation |  | Huntsville | AL | MG
Monterey Consultants, Inc |  | Dayton | OH | MP
MorningStar MyCo LLC |  | Reno | NV | SG
Mountain View Electric Company LLC |  | Willis | VA | SG
Mountaineer Community Health Center, Inc |  | Paw Paw | WV | SG
M'Possible Mortgage Group LLC | The M'Possible Mortgage | Phoenix | AZ | SG
MRP Training Solutions, Inc |  | San Diego | CA | SG
MTIV LLC | MTIV INC | Carleton | MI | SG
MULE Engineering, Inc | MULE Engineering & Construction, Inc | Winter Garden | FL | SP
Murray Automotive Group, Inc | Murray Chrysler Dodge Jeep Ram | Starke | FL | MG
Murray Ford Mercury, Inc | Murray Ford Superstore | Starke | FL | MG
National Grid Solutions LLC | National Grid Solutions LLC | Cypress | CA | SG
National Native American Construction, Inc | NNAC, Inc | Coeur d' Alene | ID | SG
Nation's Finest |  | Santa Rosa | CA | MP
Nationwide IT Services, Inc |  | Fairfax | VA | MP
Nationwide Pharmaceutical, LLC |  | San Antonio | TX | SG
Native Instinct LLC |  | Boynton Beach | FL | SP
Naval Systems, Inc |  | Lexington Park | MD | MG
Navigator Development Group Inc | Navigator Development Group Inc | Enterprise | AL | MP
Navigator International LLC |  | Huntsville | AL | MG
nDepth Security, LLC | nDepth Security | Columbia | MD | SG
Nemean Solutions, LLC |  | Sierra Vista | AZ | MP
NetCentrics |  | Herndon | VA | MG
Netizen Corporation |  | Allentown | PA | SG
NeuroScience Associates, Inc |  | Knoxville | TN | SG
NewBridge Partners, Inc |  | Herndon | VA | SP
NewStyle Communities |  | Belmont | NC | SG
NexTech Solutions LLC | NexTech Solutions | Tampa | FL | MG
NextEra Energy |  | Juno Beach | FL | LP
NextGen Federal Systems LLC |  | Morgantown | WV | MG
NextOp, Inc | NextOp | Houston | TX | SP
NineLine Veteran Services | NineLine Veteran Services | Fife | WA | SG
Nisga'a CIOPS |  | Chantilly | VA | SP
Nisga'a MOSTT |  | Chantilly | VA | SP
Nisga'a Tek, LLC |  | Chantilly | VA | MP
NorCal Staffing Group, Inc | TangoAlpha3 | Austin | TX | SG
North America Matress Corp | North America Matress Corp | Clackamas | OR | SG
North American Consulting Services, Inc | NACS, Inc | Point Pleasant | WV | SG
North American Rescue |  | Greer | SC | MP
North American Substation Services, LLC |  | Altamonte Springs | FL | MG
Northrop Grumman Corporation | Northrop Grumman Systems Corporation | Falls Church | VA | LG
Northstrat |  | Sterling | VA | MG
NStar Global Services |  | Garner | NC | MP
NTCS LLC |  | Alexandria | VA | SG
NTT Global Data Centers Americas, Inc |  | Sacramento | CA | LG
Nucor Steel Auburn, Inc |  | Auburn | NY | MG
Nuss Truck and Equipment | Nuss Truck Group Inc | Roseville | MN | MP
Oaklea Security Services, LLC | Oaklea Simpson Security | Alexandria | VA | MP
Oasis Systems LLC |  | Burlington | MA | LG
Obera LLC |  | Herndon | VA | SG
Offset Strategic Services, LLC |  | Huntsville | AL | SP
Okaloosa-Walton Jobs and Education Partnership, Inc | CareerSource Okaloosa Walton | Shalimar | FL | SG
Oklahoma Chiller Corporation |  | Tulsa | OK | SG
Olympus Solutions Inc |  | Daytona Beach | FL | SG
On Time Prime LLC | On Time Prime LLC | Daytona Beach | FL | MG
Ondadottedline, LLC |  | Salem | OR | SG
Ondra-Huyett Associates, Inc |  | Allentown | PA | SP
One Corps, Inc |  | Carolina | PR | SG
Open Security Inc |  | San Antonio | TX | SP
Open Systems Technologies Corporation | Open Systems Technologies Corporation | Gainesville | VA | MP
Operation Healing Forces |  | Tampa | FL | SG
Optimum Low Voltage, LLC | Optimum Fire & Security | Wilmington | NC | SG
Opto-Knowledge Systems, Inc | OKSI | Torrance | CA | SG
Orion ICS, LLC | Orion Talent | Cary | NC | MP
OWT GLOBAL | OWT Global, LLC | Tampa | FL | MG
Oxley Enterprises, Inc |  | Fredericksburg | VA | MG
P-11 Security, Inc | P-11 Security | Torrance | CA | SP
PACCAR WINCH Inc | PACCAR WINCH Inc | Broken Arrow | OK | MP
Pacific Aerospace Consulting, Inc |  | San Diego | CA | SG
Pacific Gas & Electric Company (PG&E) |  | Oakland | CA | LG
Paragon Cyber Solutions, LLC |  | Tampa | FL | SP
Paris Union School District No. 95 | Paris Union School District No. 95 | Paris | IL | MP
PatchPlus Consulting Inc |  | Medford | NJ | MG
PathFinder Digital LLC | PathFinder Digital | Sanford | FL | SG
Patriotic Holdings, LLC |  | New Braunfels | TX | SG
Patronus Systems Inc |  | Melbourne | FL | MP
Pennsylvania Petroleum Association, Inc |  | Middletown | PA | SG
PeopleService, Inc |  | Omaha | NE | MG
PeopleTec, Inc |  | Huntsville | AL | MP
Peraton Inc |  | Reston | VA | LG
PERCIVAL, INC | Percival Engineering | Columbia | MD | SP
Peregrine Energy Solutions, LLC |  | Boulder | CO | SP
Peregrine Technical Solutions |  | Yorktown | VA | SP
Persistent Systems LLC |  | New York | NY | MP
Phase II Staffing and Contracting, LLC |  | Quantico | VA | SP
phia LLC |  | Fairfax | VA | SP
Philbrook Construction Services Group, INC |  | Yarmouth Port | MA | SG
Phillips 66 |  | Houston | TX | LG
Phoenix Global Support, LLC |  | Fayetteville | NC | SP
PingWind INC |  | Annandale | VA | MG
Pinkham Cyr, Inc |  | Mooresville | NC | SG
PL Consulting, Inc |  | Great Falls | VA | SG
Planet Technologies, Inc | Planet Technologies, Inc | Germantown | MD | MG
Planned Systems International, Inc | Planned Systems International, Inc. (PSI) | Columbia | MD | LG
Platform Aerospace | Platform Aerospace | Hollywood | MD | MG
Platinum Business Services LLC |  | Clarksville | MD | MG
Portable Solar LLC | Sol-Ark | Plano | TX | MG
Portsmouth Community Health Center Inc | Hampton Roads Community Health Center | Portsmouth | VA | MG
Postal Solutions Inc | A-1 Notary Solutions; A1- Packaging Solutions | Torrance | CA | SG
Posterity Group LLC |  | Rockville | MD | SG
Powell Strategies, LLC |  | Annapolis | MD | SG
PPT Solutions, Inc |  | Huntsville | AL | SG
Practical Intelligence, LLC |  | Gambrills | MD | SG
Precise Systems, Inc | Precise Systems | Lexington Park | MD | LG
Precision Concrete Cutting | Precision Concrete Cutting | Escondido | CA | SG
Prefere Melamines LLC |  | Springfield | MA | SG
Prince George's County Police Department | Prince George's County Police Department | Upper Marlboro | MD | LG
Principle Services, LLC |  | Graham | TX | SG
Priority 1 Air Rescue Operations Arizona LP |  | Mesa | AZ | SG
Professional Contract Services, Inc. PCSI |  | Austin | TX | LP
Professional Solutions Delivered, LLC |  | King George | VA | MP
Programatics, LLC |  | Alexandria | VA | SP
Project Management Professional Services Corporation | The PMO Squad | Gilbert | AZ | SP
Promising People LLC |  | Orlando | FL | SG
ProSync Technology Group |  | Ellicott City | MD | SG
PSI |  | Knoxville | TN | MG
Puget Sound Energy |  | Bellevue | WA | LG
Quadrint, Inc |  | Falls Church | VA | MG
Qualis Corporation |  | Huntsville | AL | MP
Quecon, Inc |  | Front Royal | VA | SG
Quick Services LLC | QSL | Fayetteville | NC | MP
Quiet Professionals LLC |  | Tampa | FL | MP
R2C, Inc |  | Huntsville | AL | MG
R3 |  | Coronado | CA | MP
Rafael Systems Global Sustainment LLC | RSGS | Bethesda | MD | SG
RAM Aviation, Space & Defense |  | St. George | UT | MG
Rapid Cycle Solutions |  | Nokesville | VA | SG
Rapid Dry, Inc |  | Scottsville | NY | SG
Raytheon Technologies | Raytheon Technologies | Arlington | VA | LP
RB Consulting, Inc | RBCI | Frederick | MD | MP
RC4VETS LLC |  | San Antonio | TX | SG
Ready Support Services, LLC |  | Plano | TX | SP
REDI Transports |  | Green Bay | WI | SP
RedSky LLC |  | Aldie | VA | SP
ReefPoint Group, LLC |  | Annapolis | MD | MP
Reinaert LLC |  | Pinellas Park | FL | SG
Reliability & Performance Technologies, LLC | R&P Technologies | Dublin | PA | MG
RELYANT Global, LLC |  | Maryville | TN | MG
Rembert Area Community Coalition | Rembert Area Community Coalition (RACC) | Rembert | SC | SG
Renaissance Global Services LLC |  | Holmdel | NJ | SP
Renewable Energy Systems LLC |  | Avilla | IN | SP
Research and Development Solutions, Inc | RDSI | North Kingston | RI | MG
Responsible Medical Solutions Corp | Temecula 24 Hour Urgent Care; Carlsbad Urgent Care San Marcos; Temecula Family Medicine | Temecula | CA | MP
RESULTS Technology, INC |  | Overland Park | KS | SG
ResumeYourWay | MBH National Inc | Springfield | VA | SP
Revolution National Pest Council |  | Carson | CA | SP
Rhino Health FW, LLC |  | Fort Worth | TX | SG
Ricardo Defense | Ricardo Defense | Troy | MI | MG
Richard Group LLC | Richard Group LLC | Chicago | IL | SG
Ridgeline International |  | Tysons | VA | MG
RightDirection Technology Solutions LLC | RDTS | Baltimore | MD | SP
Rigid Security Group | Rigid Tactical | Virginia Beach | VA | MP
risk3sixty LLC |  | Roswell | GA | SP
Rite-Solutions, Inc |  | Middletown | RI | MP
Roberts & Ryan Investments, Inc | Roberts & Ryan | New York | NY | SG
Rockford Systems LLC |  | Rockford | IL | MG
rockITdata LLC |  | Philadelphia | PA | MP
Rocky Mountain Hydrostatics, LLC |  | Brighton | CO | SP
RTI Consulting, LLC | RTI Consulting LLC | Marshall | VA | SG
Rubicon Technical Services LLC | Rubicon Technical Services LLC | Kennesaw | GA | MP
Ruchman and Associates, Inc |  | Nottingham | MD | MG
Rushford State Bank |  | Rushford | MN | SG
S.B., Inc | Sherman Bros. Heavy Trucking | Harrisburg | OR | MP
Sabre Systems, Inc |  | Warminster | PA | MG
Safespill |  | Houston | TX | SP
Saliense Consulting |  | Tysons | VA | MG
Samsung Austin Semiconductor | Samsung Austin Semiconductor | Austin | TX | LG
Samuel Lennon | L2 Defense Inc | Middle River | MD | MG
Sancorp Consulting, LLC | Sancorp Consulting, LLC | Falls Church | VA | MG
Sandia National Laboratories |  | Albuquerque | NM | LG
Scale Facilitation Partners | Sanitex Global | New York | NY | MG
Science Applications International Corporation |  | Reston | VA | LG
Scientel Solutions LLC |  | Aurora | IL | MP
SDV Command Source INC |  | Winston-Salem | NC | SP
SDV Construction, Inc |  | Albuquerque | NM | MG
Sealing Technologies, Inc |  | Columbia | MD | MG
SecureStrux, LLC |  | Lancaster | PA | SG
Security 1 Solutions LLC |  | Gaithersburg | MD | MG
Segment HR LLC | Segment HR | The Woodlands | TX | SG
Semper Fi Doorman, Inc | Semper Fi Doorman, Inc | Chicago | IL | SG
Semper Valens Solutions |  | Canyon Lake | TX | MG
Senior Solutions for the Jersey Shore, LLC |  | Point Pleasant | NJ | SG
Senspex, Inc | Senspex, Inc | Rio Rancho | NM | MG
Sentinels of Freedom Scholarship Foundation |  | San Ramon | CA | SG
ServiceSource, Inc | ServiceSource, Inc | Oakton | VA | LG
Sevan Multi-Site Solutions, Inc |  | Downers Grove | IL | MP
Sharp Decisions, Inc | Sharp Decisions, Inc | New York | NY | MG
Shearer & Associates, Inc |  | Huntsville | AL | SP
Sheep Dog Impact Assistance |  | Rogers | AR | SG
Shen Te Enterprises Incorporated |  | Tulsa | OK | SG
Sherpa 6, Inc |  | Littleton | CO | MG
Shine Systems LLC | Shine Enterprises LLC | Charlottesville | VA | MG
Short Powerline Service, LLC |  | Glenrock | WY | SG
Shotstop Ballistics LLC |  | Stow | OH | SG
ShurMed Emergency Medical Service, LLC |  | San Antonio | TX | MP
Sierra Management and Technologies, Inc |  | California | MD | MG
Sierra Nevada Corporation | Sierra Nevada Corporation | Sparks | NV | LG
Sigma Defense Systems, Inc |  | Perry | GA | MG
Silotech Group, Inc |  | San Antonio | TX | MP
Silver Mountain Construction, LLC | North Wind Group | Palmer | AK | MG
SIMCO Electronics |  | Santa Clara | CA | MG
Simulation Technologies, Inc. (SimTech) | Simulation Technologies, Inc. (SimTech) | Huntsville | AL | MP
Six Maritime, Inc |  | San Diego | CA | MG
SixGen, Inc |  | Annapolis | MD | MP
SkillStorm Commercial Services, LLC |  | Jacksonville | FL | LG
Sky Climber Wind Solutions, LLC | Sky Climber Renewables | Delaware | OH | MP
Skybridge Tactical LLC |  | Tampa | FL | MG
SNVC, LC |  | Herndon | VA | SP
Sodexo Government East |  | Jacksonville | NC | MP
SOFtact Solutions, LLC |  | Fayetteville | NC | MG
Solution One Industries Inc |  | Killeen | TX | MG
Solutions for Information Design, LLC | SOLID | Fairfax Station | VA | SP
Sonalysts Inc |  | Waterford | CT | MP
SOSi | SOS International |  | Reston | VA | LG
SourceAmerica | SourceAmerica | Vienna | VA | MG
South Central Workforce Development Board |  | Bowling Green | KY | SP
South River Federal Solutions LLC | South River Federal Solutions | Mayo | MD | SP
Southern Company |  | Atlanta | GA | LP
SowFit Buffalo | PBnJ Enterprise | Buffalo | NY | SG
Space Coast Intelligent Solutions, Inc |  | Melbourne | FL | SG
Spark Energy Services Inc | Hohm Energy USA | New Castle | DE | SG
Spathe Systems |  | Tampa | FL | MP
Spees LLC | Spees Design Build | Kent | WA | SP
Spin Systems, Inc | SpinSys | Falls Church | VA | MP
Spirit Avionics, LTD | Spirit Aeronautics | Gahanna | OH | SG
St Clair & Co |  | Ypsilanti | MI | SP
St. James A.M.E. Zion Church—Zion House |  | Salisbury | MD | SG
Steel Point Solutions, LLC |  | Calverton | MD | SG
SteerBridge Strategies, LLC |  | Vienna | VA | SP
Stellar Solutions, Inc |  | Palo Alto | CA | MG
Still Serving Veterans |  | Huntsville | AL | SP
Stop the Addiction Fatality Epidemic (SAFE) Project US | SAFE Project | Arlington | VA | SP
StraCon Services Group, LLC | StraCon Services Group, LLC | Benbrook | TX | MP
Strata-G, LLC |  | Knoxville | TN | MP
Strategic Alliance Business Group |  | Fairfax | VA | MP
Strategic Medical Equipment Solutions, LLC |  | Monument | CO | SG
Strategic Staffing Solutions | Strategic Staffing Solutions | Detroit | MI | MP
Sumaria Systems, LLC |  | Peabody | MA | MG
Summit 7 Systems, LLC | Summit 7 Systems | Huntsville | AL | MG
Summit Aviation |  | Middletown | DE | MP
Summit Exercises and Training |  | Saint Petersburg | FL | SG
Summit Technical Solutions, LLC |  | Colorado Springs | CO | MP
Support The Enlisted Project, Inc | STEP | San Diego | CA | SG
Supreme Insulated Panel Systems | Supreme Insulated Panel Systems | Mobile | AL | SG
Surveying and Mapping, LLC |  | Austin | TX | LG
Survival Systems USA, Inc |  | Groton | CT | SG
Synack, Inc | Synack | Redwood City | CA | MG
Syndetix |  | Las Cruces | NM | SG
Synergy ECP |  | Columbia | MD | MG
Syntelligent Analytic Solutions, LLC | Syntelligent Analytic Solutions, LLC | Falls Church | VA | MP
Sysmex America Inc |  | Lincolnshire | IL | LG
System Studies & Simulation | System Studies & Simulation or S3 | Huntsville | AL | MP
Systematic Inc |  | Centreville | VA | SG
Systems Planning and Analysis, Inc |  | Alexandria | VA | LG
Systems Products and Solutions, Inc. (SPS) | Systems Products and Solutions, Inc (SPS) | Huntsville | AL | MG
T and T Consulting Services, Inc |  | Falls Church | VA | MP
Tactical Air Support, Inc |  | Reno | NV | MG
Tactical Construction, Inc |  | Victor | NY | SG
Tactical Engineering & Analysis, Inc |  | San Diego | CA | MG
Tactical Rehabilitation, Inc |  | Vero Beach | FL | SP
Talentscale, Inc |  | Las Vegas | NV | MG
Tangent Technologies, LLC |  | McLean | VA | SG
Target Media Mid Atlantic, Inc | Target Systems | Mechanicsburg | PA | MG
Tassy Trucks LLC | Tassy Transportation | Charlotte | NC | SG
Team Carney, Inc |  | Alexandria | VA | MP
Team Cymru, Inc |  | Lake Mary | FL | MG
Tech For Troops |  | Richmond | VA | SG
Tech62, Inc | Tech62 | Fairfax | VA | SG
Technical Assent, LLC |  | Arlington | VA | MG
Technology Learning Group, Inc | TLG Learning | Bellevue | WA | SG
Technology Security Associates, Inc | TSA | California | MD | MG
TekSynap |  | Reston | VA | LG
Tele-Consultants, Inc |  | Alpharetta | GA | SG
Tetra Fields LLC | Tetra Fields | Rockville | MD | SG
Textron Systems Corporation |  | Hunt Valley | MD | LG
The Boeing Company | The Boeing Company | Arlington | VA | LP
The Coalition To Salute America's Heroes Foundation | Coalition to Salute America's Heroes | Leesburg | VA | SG
The District Communications Group | DCG | Plantation | FL | MG
The Electronic On Ramp, Inc |  | Rockville | MD | SP
The Greentree Group |  | Beavercreek | OH | MG
THE INFORMATICS APPLICATIONS GROUP, INC | TIAG | Reston | VA | MP
The Intellekt Group | The Intellekt Group, LLC | San Antonio | TX | MG
The Intelligence & Security Academy, LLC |  | Arlington | VA | MP
The McHenry Management Group (TMMG) | TMMG | Chesapeake | VA | MG
The Metamorphosis Group, Inc |  | Vienna | VA | SG
The MITRE Corporation |  | McLean | VA | LG
The Podmilsak Group, Inc | PGTEK | Ashburn | VA | MG
The Rockhill Group, Inc |  | Molino | FL | MP
The RockWood Group Inc | The RockWood Group Inc | Athens | AL | SG
The Ross Group Construction Corporation |  | Tulsa | OK | MG
The Wolverine Group |  | Washington | DC | SG
Thermo Systems LLC |  | East Windsor | NJ | MG
Thomas Solutions Incorporated |  | Alexandria | VA | SP
Thompson Metal Fab, Inc |  | Vancouver | WA | MG
Tidewater Emergency Medical Service Council | Tidewater EMS Council | Chesapeake | VA | SP
Titan Associates Group Inc | Titan Associates Group Inc | Athens | TN | SG
TM3 Solutions, Inc |  | Alexandria | VA | SP
Tokyo Electron U.S. Holdings, Inc |  | Austin | TX | LP
Topsarge Business Solutions LLC | Topsarge Business Solutions | Temple | TX | SP
Torden LLC | Torden | Tiverton | RI | MP
TorrNet Technology LLC |  | Lacey | WA | SG
Trade Training Company | Sonoran Desert Institute | Tempe | AZ | MG
Training, Rehabilitation and Development Institute, Inc |  | San Antonio | TX | LG
Transmission Distribution Service | TDS Construction | Glenrock | WY | SG
TREALITY SVS LLC |  | Xenia | OH | SG
TRECIG LLC | The Veganish Cafe | Rockwall | TX | SP
Trewon Technologies, LLC |  | Stafford | VA | SP
TRIAEM, LLC |  | Sterling | VA | SG
TRIDENT 11 LLC |  | Tulsa | OK | SG
Trident Technologies and Consulting—Global, LLC | T2C-Global | Wesley Chapel | FL | SG
Trideum Corporation |  | Huntsville | AL | MP
Trinity Information Technology LLC |  | Yardley | PA | SG
TriWest Healthcare Alliance |  | Phoenix | AZ | LG
Trotter Management Services, LLC |  | Schwenksville | PA | SG
TruView BSI, LLC |  | Melville | NY | MG
TruWeather Solutions, Inc |  | Syracuse | NY | SP
U.S. Vet General Contracting, LLC |  | McFarland | WI | SG
United Brotherhood of Carpenters—UBC MVP | United Brotherhood of Carpenters | Washington | DC | MP
United Brotherhood of Carpenters and Joiners of America Local 254 |  | Edison | NJ | LG
United Rentals, Inc |  | Stamford | CT | LG
United Veterans Construction and Landscape Solutions, Inc |  | Fort Worth | TX | SP
Universal Strategy Group, Inc (USGI) | Universal Strategy Group, Inc (USGI) | Franklin | TN | MG
Universal Technical Resource Services, Inc |  | Cherry Hill | NJ | MG
University of Health and Performance |  | Bentonville | AR | SG
Unmanned Systems Incorporated | Albers Aerospace | McKinney | TX | MP
Upstate Warrior Solution, Inc |  | Greenville | SC | SP
US Communications and Electric, Inc | US Communications and Electric, Inc | Garfield Heights | OH | MG
USA Environmental, Inc | USA Environmental, Inc | Oldsmar | FL | MG
USfalcon, Inc | USfalcon, Inc | Cary | NC | MG
UT Battelle, LLC (managing Oak Ridge National Laboratory, ORNL) |  | Oak Ridge | TN | LG
Ute Water Conservancy District |  | Grand Junction | CO | MG
Utility Mapping Services, P.C |  | Clancy | MT | SG
VA Wholesale Mortgage |  | Virginia Beach | VA | SP
Valor Network Inc |  | Seaside Park | NJ | SG
Vantage Point Consulting, Inc |  | Reston | VA | SG
Vaudra Ltd | Vaudra International | Huntersville | NC | SG
Vaultes, LLC | Vaultes | Reston | VA | SG
Vector Force Development |  | Westminster | CO | LP
VectorCSP | VectorCSP | Elizabeth City | NC | MG
Veritech, LLC |  | Aberdeen | MD | SG
Verium, LLC |  | Owings | MD | SG
Verizon | Verizon | Basking ridge | NJ | LG
Veryable | Veryable INC | Dallas | TX | MG
VetCV Inc |  | Pensacola | FL | SP
Veteran Benefits Guide |  | Las Vegas | NV | MG
Veteran Engineering and Technology, LLC |  | Colorado Springs | CO | SP
Veterans Alliance |  | Stateline | NV | SG
Veterans Elite Services LLC |  | Jacksonville | FL | SP
Veterans Guardian VA Claim Consulting | Veterans Guardian VA Claim Consulting | Pinehurst | NC | MP
Veterans Inc |  | Worcester | MA | MP
Veterans Leadership Program of Western Pennsylvania, Inc | Veterans Leadership Program | Pittsburgh | PA | MG
Veterans Management Services, Inc | VMSI | Sterling | VA | MP
Veterans Medical Distributors Inc |  | Jupiter | FL | SG
Veterans Outreach Center, Inc |  | Rochester | NY | SG
Veterans Place of Washington Blvd |  | Pittsburgh | PA | SP
ViaPath Technologies | Global Tel*Link | Falls Church | VA | LP
Viasat, Inc |  | Carlsbad | CA | LG
Victory Solutions, Inc |  | Huntsville | AL | MP
Village of Hanover Park |  | Hanover Park | IL | MG
Virtual Service Operations | VSO | Manassas | VA | MP
VISTA Technology Services, Inc |  | Arlington | VA | MP
VPD Government Solutions | Voigt-Peters Associates, LLC | Arlington | VA | MG
Vulcan, Inc | Vulcan, Inc. | Foley | AL | MG
W R Systems, Ltd |  | Fairfax | VA | MG
Walsingham Group, Inc |  | Fayetteville | NC | MP
Warfeather |  | Coweta | OK | SP
Warrior Service Company LLC |  | West Palm Beach | FL | SG
Watermark Risk Management International, LLC | Watermark Risk Management International, LLC | Triangle | VA | MG
Watershed Security, LLC |  | Chesapeake | VA | SP
Watteredge, LLC |  | Avon Lake | OH | MG
Web Business Solutions, Inc | WBSI | Fredericksburg | VA | SG
Western Electricity Coordinating Council | WECC | Salt Lake City | UT | MG
Westerwood Global USA Corporation |  | Malta | NY | MP
Whalls Group LLC | Sanford Rose Associates | Aliso Viejo | CA | SG
WHITEWATER PROTECTION & TRAINING ACADEMY/HOMELAND SECURITY LLC | PULLIAM HANDGUN SAFETY SCHOOL (DBA) WHITEWATER PROTECTION & INVESTIGATION | Memphis | TN | SG
William & Mary | The Raymond A. Mason School of Business | Williamsburg | VA | MP
William C. Brown, Inc |  | Manassas | VA | SP
Willis Mechanical, Inc |  | Norcross | GA | SP
Windstream Holdings |  | Little Rock | AR | LP
Work for Warriors |  | Sacramento | CA | SP
Workforce Development Board of the Treasure Coast | CareerSource Research Coast | Port St Lucie | FL | SG
Worldwide Counter Threat Solutions, LLC |  | Fredericksburg | VA | SG
Wounded Warrior Project |  | Jacksonville | FL | LP
WPS Labor, LLC |  | Rogers | AR | SG
Xcel Energy |  | Minneapolis | MN | LG
XCEL Engineering |  | Oak Ridge | TN | SG
Zeido Technologies, LLC |  | Gainesville | VA | SG
Zero Point, Incorporated |  | Virginia Beach | VA | MP

VETS received 842 applications for the HIRE Vets Medallion Award in 2022. Among the 842 applications, 835 applications were approved for award, with 3 applications denied and 4 applications withdrawn by the applicant. Of the 835 applications approved for award, the breakdown by award type is as follows: 288 small gold (SG), 147 small platinum (SP), 181 medium gold (MG), 129 medium platinum (MP), 68 large gold (LG), and 22 large platinum (LP).

The following list shows the 838 recipients for 2022 in alphabetical order by employer name, along with their doing business as (DBA) name (as applicable), city, state or territory, and award type.

Employer name | DBA | City | State/ terr. | Award type
3 Reasons Consulting LLC |  | Mechanicsville | VT | SG
34ED LLC | Centegix | Atlanta | GA | SG
3C USA LLC | Sanitex Global | New York | NY | SG
7G Environmental Compliance Management |  | Tallahassee | FL | MG
8-koi | 8-koi | Melbourne | FL | MG
A&M Transport, LLC | A&M Transport | Glendale | OR | MP
A2 Supply Chain Services LLC | Restoration 1 of Western Wayne County | Ann Arbor | MI | SP
Abile Group, Inc |  | Harwood | MD | MP
ABML, LLC |  | Deerfield Beach | FL | MG
Academy Securities, Inc |  | New York | NY | MG
ACROPOLIS CONTROLS ENGINEERS, PLLC | ACROPOLIS ENGINEERS | Raleigh | NC | SG
Actualized Business Solutions, Inc | ABSI Aerospace & Defense | California | MD | SG
Adaptive Construction Solutions | Adaptive Construction Solutions | Houston | TX | SP
ADT Commercial |  | Boca Raton | FL | LG
Advanced Internet Marketing, Inc., DBA The GBS Group | The GBS Group | Virginia Beach | VT | MG
Advanced Technology International |  | Summerville | SC | MP
Aggregate Resource Industries, Inc |  | Springfield | OR | MG
Agile IT Synergy | AITS | Tampa | FL | SP
Agility Federal LLC |  | Phoenix | AZ | SG
AGS LLC |  | Las Vegas | NV | LG
Air Quality Solutions Heating & Cooling |  | Grove City | OH | SP
Air Traffic Engineering Co LLC | ATEC | Northfield | NJ | MG
Airstreams Renewables, Inc |  | Tehachapi | CA | SG
Alaska Joint Electrical Apprenticeship and Training Trust |  | Anchorage | AK | MG
All Embracing Home Care, LLC | All Embracing Home Care, LLC | Grand Forks | ND | SG
All In Solutions, LLC |  | Fredericksburg | VT | MP
All Inclusive Security & Investigation | All Inclusive Security & Investigation | Detroit | MI | SG
Allegient Defense, Inc |  | Arlington | VT | MG
ALLO Communications | ALLO Communications | Imperial | NE | LG
Alluvionic, Inc |  | Melbourne | FL | SG
ALLY Construction Services LLC | ALLY Construction Services | Bensalem | PA | SP
AM General |  | South Bend | IN | SG
AMDEX Corporation | AMDEX Corporation | Rockville | MD | MG
American Corrosion Solutions, Inc |  | Corpus Christi | TX | SG
American States Utility Services, Inc | ASUS | San DImas | CA | MP
AMERICAN SYSTEMS |  | Chantilly | VT | LG
American Veteran Solutions, Inc |  | Las Vegas | NV | SP
America's Warrior Partnership, Inc |  | Augusta | GA | SP
AmeriVet Securities, Inc |  | New York | NY | SP
Ametrine Inc |  | Round Rock | TX | SP
Amphenol Borisch Technologies |  | Grand Rapids | MI | MG
ANALYGENCE, Inc |  | Fulton | MD | MG
Analytic Services Inc | ANSER | Falls Church | VT | MP
Analytical Engineering, Inc |  | Columbus | IN | SP
Angelion Mobility |  | Bryn Mawr | PA | SG
ANVIL SYSTEMS GROUP INC |  | Lorton | VT | SP
Apogee Solutions, Inc |  | Chesapeake | VT | MG
A-P-T Research, Inc |  | Huntsville | AL | MG
Aptive Resources |  | Alexandria | VT | MP
Argent Technologies, LLC | Argent Technologies, LLC | Floresville | TX | SG
Armcorp Construction, Inc | Armcorp Construction, Inc | Celina | OH | SP
Arsiem Corporation, Inc |  | Baltimore | MD | SG
Artemis Electronics, LLC |  | Prospect | KY | SG
Asheville Buncombe Community Christian Ministries—Veterans Services of the Carolinas | ABBCM | Asheville | NC | SG
ASJ IT Services, LLC | ASJ Solutions | Chesapeake | VT | SG
Assertic LLC |  | Chicago | IL | SG
Assertive Professionals |  | Southern Pines | NC | SG
Assessment Technologies Group | Assessment Technologies Group | Jacksonville | FL | SP
Assured Consulting Solutions, LLC |  | Reston | VT | MP
Assured Information Security, Inc | AIS | Rome | NY | MG
Astound LLC | Veteran Recruiting | Warrington | PA | SG
Atec, Inc | Atec, Inc | Stafford | TX | MG
ATECH, Inc |  | Nashville | TN | SG
Atkinson Aeronautics & Technology Inc |  | Fredericksburg | VT | SP
Atlas Sand Company, LLC | Atlas Sand | Austin | TX | MP
Atlas Technologies, Inc |  | North Charleston | SC | MG
Atriax, PLLC |  | Hickory | NC | SG
ATS ESOP Holdings, Inc | ATS/Acclaim Technical Services | Reston | VT | MG
Attain Technology Inc |  | Providence | RI | SG
Attollo, LLC | Attollo, LLC | New Bern | NC | SG
Aunty's Place Early Learning & Child Care Center, LLC | Aunty's Place Early Learning & Child Care Center, LLC | Auburn | WA | SG
AutoBase Inc |  | Amityville | NY | MP
AVANTUS FEDERAL | Avantus Federal | MCLEAN | VT | LG
Aviate Enterprises, Inc |  | McClellan | CA | SP
Aviation Safety Resources, INC |  | Nicholasville | KY | SG
AVIVV, LLC |  | San Diego | CA | SP
Azimuth Corporation |  | Beavercreek | OH | MP
Azule Management Group, Inc |  | Lakeville | MN | SG
B.A.F.E Group, LLC |  | Atlanta | GA | SG
Balance Point Construction |  | AVON | CO | SG
Bancroft Capital LLC | Bancroft Capital LLC | Ft. Washington | PA | SP
Banner Defense, Inc |  | Madison | AL | SP
Barnett Engineering & Signaling Laboratories LLC | BESL | Colorado Springs | CO | SG
Battelle Energy Alliance | Idaho National Laboratory | Idaho Falls | ID | LG
Battlespace, Inc |  | Las Vegas | NV | MP
BBP TRANSPORTATION INC |  | Douglasville | GA | SG
BC Medical | BC Medical | North Highlands | CA | SG
Beagle Hill Services LLC |  | Frazeysburg | OH | SG
Beast Code LLC |  | Fort Walton Beach | FL | MG
Bell Textron Inc |  | Fort Worth | TX | LG
Best Version Of Yourself Psychology LLC | Best Version Of Yourself Psychology LLC | Henderson | NV | SG
Betis Group, Inc |  | McLean | VT | SP
Bevilacqua Research Corporation |  | Huntsville | AL | MP
BGIS |  | Seattle | WA | LG
Big Ideas, Inc |  | New Ulm | MN | SP
Bilbro Construction Company |  | Escondido | CA | SG
Bison Health, LLC | Bison Health | Las Vegas | NV | SG
Black Bear Technology Solutions, LLC | Black Bear Technology Solutions, LLC | Alexandria | VT | SP
Black Fox LLC |  | Baltimore | MD | SG
Black Hills Service Company LLC | Black Hills Energy | Rapid City | SD | LP
Black Lion Realty |  | Newport News | VT | SG
Blake Willson Group, LLC | Blake Willson Group | Arlington | VT | SG
Blue Light LLC |  | Fayetteville | NC | SG
Blue Star Families |  | Encinitas | CA | MG
Bluecord International, Inc | Bluecord | Keizer | OR | SP
BlueHalo, LLC |  | Arlington | VT | MP
BluePath Labs LLC |  | Washington | DC | SP
Boingo Wireless |  | Los Angeles | CA | MG
Booz Allen Hamilton | Booz Allen Hamilton | McLean | VT | LP
Boston Fusion Corp |  | Lexington | MA | SG
Boston Government Services, LLC |  | Oak Ridge | TN | MG
Bradley-Morris Holdings, LLC | Bradley-Morris/RecruitMilitary | Chesapeake | VT | MG
Brighton Marine, Inc |  | Brighton | MA | SG
Brightstar Innovations Group, LLC |  | Arlington | VT | SG
Britescape |  | Seattle | WA | SG
Brusseau Construction | Brusseau Construction | Palos Verdes Estates | CA | SG
C & G Consulting, Inc |  | Manassas Park | VT | SG
Cabot Hosiery Mills | Darn Tough Vermont | Northfield | VT | MG
Caddell Construction | Caddell Construction Co. (DE) LLC | Montgomery | AL | MG
CAE USA INC |  | Tampa | FL | LP
Calvert Systems Engineering, Inc | Calvert Systems | Bellevue | NE | MG
Canvas, Inc |  | Huntsville | AL | MG
Capco, LLC |  | Grand Junction | CO | MG
Cape Henry Associates, Inc |  | Virginia Beach | VT | MP
Career Learning & Employment Center for Veterans, Inc | Operation: Job Ready Veterans (OJRV) | Indianapolis | IN | SP
Career Systems Development Corp | Penobscot Job Corps Center | Bangor | ME | SG
Carolina Staffing | Shirley Swanson DBA Carolina Staffing | Aiken | SC | SG
Carter-Lambert Divisions, LLC |  | Waldorf | MD | SG
Carvana | Carvana | Tempe | AZ | LG
Casilo Consulting, LLC | Vector Services | Batavia | IL | MP
Cassidy Consulting Group, LLC/C2G | C2G | Hertford | NC | SG
Castle Hill Associates, LLC |  | Waterville | OH | SG
CAVU CONSULTING LLC | CAVU Construction | Virginia Beach | VT | SP
Cayuse Holdings, LLC |  | Pendleton | OR | LP
CB Design Group |  | Alexandria | VT | SP
Celerity Government Solutions, LLC | Xcelerate Solutions | McLean | VT | MG
Charter Trading Corporation |  | Clear Lake Shores | TX | SG
Chesapeake Bay Helicopters, Inc |  | Chesapeake | VT | SP
Choisys Technology, Inc |  | Ashburn | VT | SP
Chronic Golf, LLC | Chronic Golf | Hilton Head Island | SC | SG
CICB | CICB | Orlando | FL | SG
Cincinnati Incorporated |  | Harrison | OH | MG
Cintel Inc | Cintel | Huntsville | AL | SG
Circle Computer Resources |  | Cedar Rapids | IA | MP
Circuit Media LLC |  | Denver | CO | MP
City of Alpharetta, Georgia |  | Alpharetta | GA | MG
City of Cape Canaveral |  | Cape Canaveral | FL | MP
City of Harker Heights |  | Harker Heights | TX | MG
City of St. Charles | City of St. Charles | St Charles | IL | MG
City of Toledo |  | Toledo | OH | LP
City of Treasure Island |  | Treasure Island | FL | MG
Clarklift of Des Moines, Inc | Forklifts of Des Moines | Des Moines | IA | SG
Clear Creek Group, Inc |  | Reston | VT | MP
Client First Technologies, LLC |  | Fairfax | VT | SP
Client/Server Software Solutions Inc. Constellation West | Constellation West | Vienna | VT | MG
Coalfire Systems Inc |  | Westminster | CO | LG
Cognosante |  | Falls Church | VT | LG
Cognovi Labs | Cognovi Government Services | Columbus | OH | SP
Colorado Sheet Metal JATC |  | Colorado Springs | CO | MP
Colorado Springs Utilities |  | Colorado Springs | CO | LG
Communities In Schools of Spokane County | Communities In Schools of Spokane County | Spokane | WA | SG
Community Security Services, LLC | CSSI | Mobile | AL | SP
Compendium Federal Technology LLC | CFT | Lexington Park | MD | SP
Computer Training Services, LLC | New Horizons Computer Learning Center | Knoxville | TN | SG
COMSETRA LLC | COMSETRA | Jay | OK | SG
COMSO, Inc |  | Columbia | MD | SP
Conceras, LLC |  | Fairfax | VT | SG
Concordant, LLC |  | Laramie | WY | SP
Conditioned Air Company of Naples LLC |  | Naples | FL | MG
Connectria, LLC |  | St. Louis | MO | MG
Consolidated Nuclear Security, LLC | Y-12 National Security Complex | Oak Ridge | TN | LG
Constellation Software Engineering Corp | CSEngineering | Annapolis | MD | MG
Construction Helicopters Inc | CHI AVIATION | Howell | MI | MG
Construction Services Group, Inc |  | Charleston | SC | SP
Contracting Resources Group, Inc |  | Baltimore | MD | MP
Convergint Technologies LLC | Convergint | Schaumburg | IL | LG
Converse Construction, Inc | Converse Construction, Inc | Redding | CA | SG
Converse Electric |  | Grove City | OH | MG
Core Government Services Corporation | CGS | Charles Town | WV | SG
Core4ce | Core4ce LLC | Reston | VT | MG
Coronet Technology Enterprises, Inc | CivilianCyber | Richmond | VT | SP
Corporate America Supports You (CASY) | VetJobs | Lake St Louis | MO | MP
Corps Solutions, LLC |  | Stafford | VT | MG
CoSolutions, Inc |  | Sterling | VT | MG
CP Marine, LLC dba CPMG, LLC |  | Juneau | AK | SP
CPS Professional Services, LLC (d/b/a CATHEXIS) | CATHEXIS | Falls Church | VT | MG
Crane 1 Services | Crane 1 Services | Miamisburg | OH | MG
Criterion Systems, Inc |  | Vienna | VT | MG
Critical CxE Inc | Critical CxE Inc | Annapolis | MD | SP
Cromulence LLC |  | Melbourne | FL | MG
CROSSWORKS TECHNOLOGIES, INC | Crossworks Technologies, Inc | Orlando | FL | SG
Cruz Associates, Inc |  | Yorktown | VT | MP
CTI Resource Management Services, Inc | CTI Resource Management Services, Inc | Jacksonville | FL | MG
Custom Mechanical Systems, Corp | CMS Corporation | Bargersville | IN | MP
Customer Value Partners, LLC | CVP | Fairfax | VT | MG
CymSTAR LLC | CymSTAR LLC | Broken Arrow | OK | MG
CymSTAR Services LLC |  | Broken Arrow | OK | MG
Darkblade Systems LLC |  | Winchester | VT | MG
DarkStar Intelligence, LLC |  | Alexandria | VT | MG
Datrose, Inc |  | Webster | NY | MG
Dauntless Wine Company |  | Forest Grove | OR | SG
DD DANNAR, LLC |  | Muncie | IN | SG
Dead River Company |  | South Portland | ME | LG
Decisive Point Consulting Group, LLC |  | Waco | TX | MG
Deem Structural Services |  | Longview | TX | SP
Defense Contracting, Inc | DCI Solutions | Aberdeen Proving Grounds | MD | MP
DEFTEC Corporation |  | Huntsville | AL | SG
Deiter Bros. Fuel Co., Inc | Deiter Bros. Heating Cooling Energy | Bethlehem | PA | SG
Delmarva Veteran Builders |  | Salisbury | MD | SG
Delta Air Lines | Delta Air Lines | Atlanta | GA | LG
DELTACON GLOBAL INC | Deltacon Security | Sugarland | TX | SP
DEMCO ENTERPRISES, INC | Demco Automation | Quakertown | PA | SG
Devine Timoney Law Group | Devine Timoney Law Group | Blue Bell | PA | SP
DIGITAL GLOBAL CONNECTORS, LLC |  | McLean | VT | SG
DiSorb Systems, Inc |  | Philadelphia | PA | SG
Dixon Management Group LLC | SERVPRO of Belle Meade | Nashville | TN | SG
DK & R Corp |  | Henderson | NV | SP
Dominion Energy, Inc |  | Richmond | VT | LG
Dorrean, LLC |  | Reston | VT | SG
Dotts Group LLC |  | Downingtown | PA | SG
Draken International LLC |  | Fort Worth | TX | MP
Drexel Hamilton, LLC | Drexel Hamilton, LLC | New York | NY | SG
DroneShield |  | Warrenton | VT | SG
DSoft Technology, Engineering & Analysis |  | Colorado Springs | CO | SP
DuPont de Nemours, Inc |  | Wilmington | DE | LG
DWBH, LLC | DWBHCORP | Arlington | VT | SG
Dynamic Planning & Response LLC |  | Honolulu | HI | SG
Eagle Systems, Inc |  | California | MD | MG
EARLY SERVICES INC |  | Decatur | AL | SG
Eastern Carolina Vocational Center, Inc (ECVC) |  | Greenville | NC | MG
Electric Power Systems International, Inc |  | Maryland Heights | MO | LG
Electrical Test Instruments, LLC | ETI Precision | Frederick | MD | SP
Eljen Corporation |  | Windsor | CT | MG
EM Key Solutions, Inc |  | St. Petersburg | FL | SP
EMD LLC | EMD LLC | Woodbridge | VT | SG
Employment Source, Inc | ServiceSource | Fayetteville | NC | MP
Enhanced Veterans Solutions Inc |  | Fairfax | VT | MP
ENSCO Avionics, Inc |  | Endicott | NY | MG
ENSCO Rail, Inc |  | Springfield | VT | SP
ENSCO, Inc |  | Springfield | VT | LG
Entegrity Consulting Group |  | Dayton | OH | SP
Entergy Corporation |  | New Orleans | LA | LG
Environet Inc |  | Honolulu | HI | SG
Environmental Chemical Corporation | n/a | Burlingame | CA | MP
Eolian |  | Clearwater | FL | SG
EPS Corporation |  | Tinton Falls | NJ | MP
Eskridge Enterprises LLC | Eskridge & Associates | Round Rock | TX | SP
EST Companies | EST Companies LLC | Tempe | AZ | SG
Etranservices |  | Fredericksburg | VT | SG
Ever-Green Energy, Inc |  | Saint Paul | MN | MG
Evergreen Fire and Security | Evergreen Fire and Security | Tacoma | WA | MP
Eversource Energy |  | Hartford | CT | LG
Exact Staff, Inc |  | Calabasas | CA | MG
Excalibur Legal Staffing, LLC | The Excalibur Group | Washington | DC | SG
Excel Medical Staffing, LLC |  | Grapevine | TX | SP
Excentium, Inc |  | Reston | VT | MP
Exceptional Employees for Exceptional Results Inc | E3R Inc | San Diego | CA | SG
Expansia Group LLC | EXPANSIA | Nashua | NH | MP
Expeditionary Technology Services, Inc |  | Smyrna | GA | SP
Explosive Countermeasures International, Inc | ECI | Delaplane | VT | SP
F3EA, Inc |  | Savannah | GA | MG
FASTPORT, Inc |  | Valparaiso | IN | SG
Federal Acquisition Strategies, LLC |  | Arlington | VT | SP
Federal Practice Group | Eric S. Montalvo PLLC d/b/a Federal Practice Group | Washington | DC | SG
Federal Strategies, LLC | Federal Strategies LLC | Fredericksburg | VT | SG
FedPoint | LTC Partners DBA FedPoint | Portsmouth | NH | MG
FireSAFE |  | Lakeville | MN | MP
First Choice Counseling Professional Corporation | First Choice Counseling Professional Corporation | University City | MO | SG
First Nation Group, LLC |  | Niceville | FL | MP
Five Star Global Security LLC |  | Fayetteville | NC | SG
Flagship Management, LLC |  | Bristol | PA | SG
Flatter, Inc | Flatter | Fredericksburg | VT | MG
Florida is for Veterans, Inc | Veterans Florida | Tallahassee | FL | SG
Freedom Staffing LLC |  | Indianapolis | IN | MG
Fresh Start LLC | The Groutsmith | Bryn Mawr | PA | SP
Frontier Market Solutions, LLC | Ravenox | Mount Vernon | WA | SG
Fusion Cell LLC |  | Windham | NH | SP
Future Tech Career Institute |  | Chicago | IL | SP
G F G Contractor LLC | GFG Contractor | Montgomery | AL | SG
Gannon & Scott Phoenix, Inc |  | Phoenix | AZ | SG
Garry Gaston Global Career Coaches | G3 Global Career Coach | Arlington | VT | SG
Gary Merlino Construction |  | Seattle | WA | MG
Gary R Banks Industrial Group LLC | Banks Industrial Group | West Berlin | NJ | SG
Gatekeeper Intelligent Security | Gatekeeper Security, Inc | Sterling | VT | SG
Gauss Management Research and Engineering GMRE, Inc |  | South Ogden | UT | MG
GCubed Enterprises, Inc | GCubed, Inc | Stafford | VT | SP
GDM |  | Bingen | WA | SG
General Dynamics Mission Systems | General Dynamics Mission Systems | Fairfax | VT | LP
General Dynamics NASSCO-Norfolk | General Dynamics NASSCO-Norfolk | Norfolk | VT | LP
General Dynamics-Bath Iron Works |  | Bath | ME | LG
GenTech Associates Inc |  | Indianapolis | IN | MG
Geo Owl LLC |  | Wilmington | NC | MG
Geostabilization International | Geostabilization International | Denver | CO | LP
Get Off the Drawing Board LLC | Divergence Academy | Addison | TX | SG
Global C2 Integration Technologies | Global C2 Integration Technologies | Las Vegas | NV | SP
Global Security Services |  | Davenport | IA | MP
Global Skills Exchange Corporation | GSX, Global Skills X-Change | Alexandria | VT | SG
Global Technology & Management Resources, Inc | GTMR, Inc | Hollywood | MD | MG
GLOBALFOUNDRIES U.S. Inc |  | Malta | NY | LG
Glotech, Inc |  | Rockville | MD | MP
Go Energistics |  | Dallas | TX | SG
Goldbelt C6, LLC |  | Chesapeake | VT | MP
Goldbelt Falcon, LLC |  | Chesapeake | VT | MP
Goldbelt Frontier, LLC |  | Alexandria | VT | MP
Goldbelt Glacier Health Services, LLC |  | Alexandria | VT | MP
Goldbelt Hawk, LLC |  | Newport News | VT | MP
Goldbelt Nighthawk, LLC |  | Newport News | VT | SP
Goldbelt Security, LLC |  | Juneau | AK | MP
Goldbelt Transportation, LLC |  | Juneau | AK | SP
Golden Key Group |  | Reston | VT | MG
Good Samaritan Society—Simla |  | Simla | CO | SG
Gotham Government Services |  | McLean | VT | SG
Government Tactical Solutions |  | Vienna | VT | MP
Grace Federal Solutions, LLC |  | Raleigh | NC | SG
Green Cell Consulting LLC |  | Fredericksburg | VT | SG
Greencastle Associates Consulting, LLC |  | Malvern | PA | MP
GSI Service Group Inc |  | Honolulu | HI | MG
GSMB Services LLC | Gold Star Medical Business Services | Horseshoe Bay | TX | SP
GUARDIAN ANGELS MEDICAL SERVICE DOGS INC |  | Williston | FL | SP
H2 Performance Consulting Corp |  | Gulf Breeze | FL | MP
Hancock Management LLC |  | Derry | NH | SG
Hard4Life NPO | Hard4Life NPO | Union | SC | SG
Harmonia Holdings Group, LLC |  | McLean | VT | MG
Hawkeye Tracking Inc |  | Lexington Park | MD | SG
HD Dog Training LLC |  | Bensalem | PA | SG
Health by Design |  | Jacksonville | FL | SG
Helimax Aviation, Inc | Helimax Aviation Inc | McClellan | CA | MG
Helios Defense Solutions, LLC |  | Eldersburg | MD | SP
Hernandez Consulting & Construction | Hernandez Consulting & Construction | New Orleans | LA | MP
High Order Solutions, LLC |  | Frisco | TX | SG
HigherEchelon, Inc |  | Huntsville | AL | MP
Highland Engineering, Inc |  | Howell | MI | SG
Historic Flight Foundation |  | Spokane | WA | SG
HTM Global, LLC | College of Biomedical Equipment Technology | San Antonio | TX | SG
HudsonAnalytix, Inc |  | Cherry Hill | NJ | SG
Huot Construction & Services | Huot Construction & Services | South St. Paul | MN | SG
HurtVet Subcontracting |  | Park City | UT | SP
Iconicx Critical Solutions, LLC |  | Amsterdam | NY | MP
IDEA HELIX INC |  | Fremont | CA | SG
Independence Hydrogen Inc |  | Ashburn | VT | SP
Indigo IT, LLC |  | Reston | VT | MG
Industrial Cooling Corporation |  | Metuchen | NJ | MG
Industrial Packaging Supplies Inc | IPS Packaging & Automation | Fountain Inn | SC | MP
Infinity Technology Services, LLC | ITS, LLC | Colorado Springs | CO | MG
Information Management Group Inc | IMG | Fairfax | VT | MG
Inspection Experts, Inc |  | Columbia | MD | MP
Inspired Solutions, Inc | Inspired Solutions of Virginia, Inc | Woodbridge | VT | SG
Integration Innovation, Inc | i3 | Huntsville | AL | LG
INTELLIDYNE, LLC |  | Falls Church | VT | MG
Intelligent Waves LLC | Intelligent Waves | Reston | VT | MG
IntePros Federal |  | Washington | DC | MG
Interactive Government Holdings, Inc | Interactive Government Holdings, Inc | Springfield | VT | MP
Interlake Maritime Services |  | Middleburg Heights | OH | MG
International Controls Systems, Inc |  | Littleton | CO | SG
International Training Fund |  | Annapolis | MD | LP
Intrepid Solutions and Services, LLC |  | Herndon | VT | MG
Intuitive Research and Technology Corporation |  | Huntsville | AL | LP
Invenergy |  | Chicago | IL | LG
iostudio, LLC | iostudio, LLC | Nashville | TN | MG
IronMountain Solutions, Inc | IronMountain Solutions, Inc | Huntsville | AL | MG
IT Concepts, Inc |  | Vienna | VT | MG
IT Veterans LLC | IT Veterans LLC | Herndon | VT | SP
J Forrest Group | Forrest Performance Group (FPG) | Fort Worth | TX | SG
Jackson Ryan Construction Services, Inc |  | Suffield | CT | SG
Janissary, LLC |  | Houston | TX | SP
Java Productions Inc | JPI | Blacksburg | VT | MG
Jay & Kay Mfg. LLC | Jay & Kay Mfg. LLC | Croswell | MI | SP
JB Management Inc |  | Alexandria | VT | SG
JCTM LLC |  | Charlotte | NC | MP
Jersey Tractor Trailer Training, Inc |  | Lyndhurst | NJ | SG
Jesus M Salcedo | Yugen Brazilian Jiu-Jitsu | York | PA | SG
JGMS Government Services, LLC | JGMS Government Services, LLC | Grand Junction | CO | SG
Jingoli Nuclear Services, LLC |  | Lawrenceville | NJ | SP
Jingoli Power, LLC |  | Lawrenceville | NJ | MP
JIT Staffing LLC | Just In Time Staffing | Round Rock | TX | SP
JMA Resources, Inc |  | East Berlin | PA | SP
Joelle Rabow Maletis & Associates, Inc | Joelle Rabow Maletis | Mountain View | CA | SP
John H. Northrop & Associates, Inc | JHNA | Clifton | VT | MG
John Jensen | Isaiah 58-Ministries of Love | Rogersville | AL | SG
John Stevens Berry PC LLO | Berry Law Firm | Lincoln | NE | MG
Jovian Concepts, Inc |  | Hanover | MD | MG
JR Kays Trucking Inc |  | Clarendon | PA | SP
JVC Enterprises Inc |  | Byron Center | MI | SG
JVS SoCal |  | Los Angeles | CA | MG
K. S. Ware & Associates, LLC |  | Nashville | TN | SP
KA Logistics, Inc |  | Bolingbrook | IL | MG
KaDSci, LLC |  | Fairfax | VT | SP
Kaiva Services |  | Tulsa | OK | SG
Kaizen Approach, Inc |  | Hanover | MD | SP
KAW Enterprises LLC |  | The Villages | FL | SG
Kegman Inc | Kegman Inc | Melbourne | FL | SG
Kent, Campa and Kate (KCK) Inc |  | Arlington | VT | SP
Kentco Corporation | ProteQ | Herndon | VT | SG
Keystone Fire & Security |  | North Wales | PA | MG
Kingfisher Systems, Inc |  | Falls Church | VT | MG
Kingsky Flight Academy LLC |  | Lakeland | FL | SG
KIRSH Helmets, Inc | KIRSH Helmets | Schenectady | NY | SG
KITTENS Cleaning Service LLC | KITTENS Cleaning Service | Galax | VT | SG
Kitty Hawk Technologies |  | Honesdale | PA | SG
Knight Federal Solutions Inc |  | Orlando | FL | MG
Knowesis Inc |  | Fairfax | VT | MP
KnowledgeBridge International Inc | KBI | Chantilly | VT | SP
Kolme Group, LLC |  | Phoenix | AZ | SP
Korman LLC |  | Waukegan | IL | SG
KSA Integration LLC |  | Stafford | VT | SP
Kwest Group LLC | Kwest Group | Perrysburg | OH | MP
Laura Ebner |  | Annapolis | MD | SG
LAZARUS ALLIANCE, INC | LAZARUS ALLIANCE, INC | Scottsdale | AZ | SP
Legacy Ironworks LLC |  | Pearland | TX | SG
Legato, LLC |  | Columbia | MD | SP
Leidos |  | Reston | VT | LG
Leisureland RV Center | Leisureland RV Center | Boise | ID | SG
Leonardo Electronics US, Inc | Leonardo Electronics | Arlington | VT | MG
Leryn, Inc | Smash My Trash | Tampa | FL | SG
Linchpin Solutions, Inc |  | Tampa | FL | MP
LinQuest Corporation |  | Los Angeles | CA | LG
Lockheed Martin |  | Bethesda | MD | LG
Los Alamos National Laboratory |  | Los Alamos | NM | LG
Louisiana Energy Services LLC, d/b/a. URENCO USA | URENCO USA | Eunice | NM | MP
Lucas Group |  | Atlanta | GA | MG
Lukos, LLC |  | Tampa | FL | MP
Lynch Consultants, LLC | Lynch Consultants, LLC | Arlington | VT | MP
M Dean Owen, CPA, PSC |  | Paducah | KY | SG
Magnolia River Services |  | Decatur | AL | LG
Magnum Opus, LLC | MO Studio | Denver | CO | SG
Mainsail Group LLC |  | Bedford | MA | MG
Maise Group LLC | Maise Technology | Brigham City | UT | SG
Malace HR | Malace HR | Troy | MI | SG
ManTech International Corporation |  | Herndon | VT | LG
Mark Ronning, LLC | Northwest Veterans Law | Salem | OR | SP
Markon, LLC | Markon Solutions, An Anser Advisory Company | Falls Church | VT | MP
Marxmen Protection Agency |  | Dundalk | MD | SG
Matrix Providers | Matrix Providers | Denver | CO | LG
Maveris, LLC | Maveris | Martinsburg | WV | MP
Mb Solutions, Inc |  | Huntsville | AL | MP
MCPc Holdings, Inc |  | Cleveland | OH | MG
MEDFORD KNIFE & TOOL LLC |  | Phoenix | AZ | SG
Memphis-Shelby County Schools | Memphis-Shelby County Schools | Memphis | TN | LG
Mesa Natural Gas Solutions |  | Loveland | CO | MP
Messer North America, Inc | Messer Americas | Bridgewater | NJ | LG
Metal Masters | Eagle Group | Clayton | DE | MG
Metis Technology Solutions, Inc |  | Albuquerque | NM | MP
Metro Data, Inc |  | Cockeysville | MD | SG
MI Technical Solutions, Inc |  | Chesapeake | VT | MP
Miles Technology Solutions LLC | Miles Enterprise Solutions | Charlotte | NC | SG
Military Officers Association of America | MOAA | Alexandria | VT | MG
Miquin LLC |  | Katy | TX | SG
Mischler Financial Group |  | Corona Del Mar | CA | MP
Mission1st Group Inc | Mission1st Group Inc | Arlington | VT | MP
MIT Lincoln Laboratory | MIT Lincoln Laboratory | Lexington | MA | LG
Mitchell Technical College | Mitchell Technical College | Mitchell | SD | MG
MITRE Corporation |  | Bedford | MA | LG
MKS2, LLC |  | Austin | TX | MG
MLM Services Inc | Maintance and Logistics Managment INC | Camp Hill | PA | SG
Monte Sano Research Corporation |  | Huntsville | AL | MP
Mortgage Research Center, LLC |  | Columbia | MO | LG
Mosquito Joe SCPA |  | Lancaster | PA | SG
Mountaineer Community Health Center |  | Paw Paw | WV | SG
Moyer Brothers Company, Inc |  | Luray | VT | SG
MRP Training Solutions, Inc |  | San Diego | CA | SG
Murray Automotive Group, Inc | Murray Chrysler Dodge Jeep Ram | Starke | FL | SG
Murray Ford Mercury, Inc | Murray Ford Superstore | Starke | FL | MG
Murray Ford of Kingsland | Murray Ford of Kingsland | Kingsland | GA | SG
Nation's Finest |  | Santa Rosa | CA | MP
Nationwide IT Services, Inc |  | Fairfax | VT | MP
Nationwide Pharmaceutical LLC |  | San Antonio | TX | SG
Naval Systems, Inc |  | Lexington Park | MD | MG
Navigator Development Group Inc |  | Enterprise | AL | MP
Navigator International LLC |  | Huntsville | AL | MG
nDepth Security, LLC | nDepth Security | Columbia | MD | SG
Nemean Solutions, LLC |  | Sierra Vista | AZ | MP
NetCentrics | NetCentrics | Herndon | VT | MP
Netizen Corporation |  | Allentown | PA | SP
NetLink Solutions, LLC |  | Broken Arrow | OK | SG
Network Cabling Services | NCS Network Cabling Services | Houston | TX | MG
NeuroScience Associates, LLC | NeuroScience Associates, LLC | Knoxville | TN | SG
NewBridge Partners, Inc |  | Herndon | VT | SP
NexTech Solutions LLC |  | Tampa | FL | MP
NextEra Energy |  | Juno Beach | FL | LP
NextGen Federal Systems |  | Morgantown | WV | MG
NineLine Veteran Services | NineLine Veteran Services | Fife | WA | SG
Nisga'a Data Systems, LLC |  | Chantilly | VT | MP
Nisga'a Tek, LLC |  | Chantilly | VT | MP
NorCal Staffing Group, Inc | TangoAlpha3 | Austin | TX | SG
North America Mattress Corp |  | Clackamas | OR | SG
North American Consulting Services, Inc | NACS, Inc | Point Pleasant | WV | SG
North American Rescue, LLC | North American Rescue | Greer | SC | MP
North American Substation Services, LLC |  | Altamonte Springs | FL | MG
Northrop Grumman Corporation | Northrop Grumman Systems Corporation | Falls Church | VT | LG
Norton Consulting & Investigations |  | Lakewood | WA | SG
nou Systems, Inc | nou Systems, Inc | Huntsville | AL | MG
NTT Global Data Centers Americas, Inc |  | Sacramento | CA | MG
Nuss Truck and Equipment | Nuss Truck and Equipment | Roseville | MN | MP
Oaklea Security Services, LLC | Oaklea Simpson Security | Westminster | MD | MP
Oasis Systems LLC | Oasis Systems | Burlington | MA | LG
Obera LLC |  | Herndon | VT | SG
Odin Consulting International, LLC | Odin Consulting International, LLC | Tampa | FL | SG
Odyssey Systems Consulting Group |  | Wakefield | MA | LG
Offset Strategic Services, LLC |  | Huntsville | AL | SP
Okaloosa- Walton Jobs and Education Partnership, Inc | CareerSource Okaloosa Walton | Shalimar | FL | SG
Olympus Solutions Inc |  | Daytona Beach | FL | SG
OMNICOMMANDER INC | OMNICOMMANDER | Miramar Beach | FL | MG
On Target Solutions Inc |  | Hendersonville | TN | SG
On Time Prime LLC |  | Daytona Beach | FL | MG
Ondra-Huyett Associates, Inc | Ondra-Huyett Associates, Inc | Allentown | PA | SP
Onset Technologies LLC |  | Houston | TX | SG
Open Security, Inc |  | San Antonio | TX | SP
Open Systems Technologies Corporation | Open Systems Technologies Corporation | Gainesville | VT | MP
Optimum Low Voltage, LLC | Optimum Fire & Security | Wilmington | NC | SG
Optimus Technologies, Inc |  | Pittsburgh | PA | SG
Opto-Knowledge Systems Inc | OptoKnowledge | Torrance | CA | SG
Orbit Advanced Technologies, Inc |  | Warminster | PA | SG
Orion ICS LLC | Orion Talent | Cary | NC | MG
Outdoor Services of the Coulee Region Inc | Outdoor Services, Inc | West Salem | WI | SG
Overwatch Mission Critical | Overwatch Mission Critical | Austin | TX | SG
OWT Global LLC |  | Tampa | FL | MG
Oxley Enterprises, Inc |  | Fredericksburg | VT | SP
P-11 Security, Inc | P-11 Security | Torrance | CA | SP
PACCAR WINCH INC | PACCAR WINCH INC | Broken Arrow | OK | MG
Pacific Gas & Electric Company (PG&E) |  | San Francisco | CA | LP
PacifiCorp |  | Portland | OR | LG
Paris Union School District No. 95 | Paris Union School District No. 95 | Paris | IL | SG
Parsons Corporation |  | Centreville | VT | LG
Pathfinder Consultants, LLC |  | Washington | DC | SP
Patronus Systems Inc |  | Melbourne | FL | MG
Peacemaker Defense Group | Peacemaker Defense Group | Pacific | MO | SG
Pearl Technology LLC |  | Peoria Heights | IL | SG
Penn Power Group, LLC | Penn Power Group | Philadelphia | PA | SG
PennFleet Corp |  | Boothwyn | PA | SG
Pennsylvania Petroleum Association |  | Middletown | PA | SG
PeopleTec, Inc |  | Huntsville | AL | MP
Peraton Inc |  | Herndon | VT | LG
PERCIVAL, INC |  | Columbia | MD | SG
Peregrine Technical Solutions |  | Yorktown | VT | MP
PERFECTA FEDERAL, LLC |  | Springfield | VT | SP
Phase II Staffing and Contracting, LLC | Phase II | Quantico | VT | SP
Philbrook Construction Services Group, INC |  | Yarmouth Port | MA | SG
Phillips 66 |  | Houston | TX | LG
Phoenix Global Support, LLC |  | Fayetteville | NC | SP
Phoenix Management, Inc |  | Cedar Park | TX | MG
Pikes Peak Library District | Pikes Peak Library District | Colorado Springs | CO | MG
PingWind Inc |  | Annandale | VT | MG
Pinkham Cyr, Inc |  | Mooresville | NC | SG
Pittsburgh Hires Veterans |  | Pittsburgh | PA | SG
PL Consulting, Inc |  | Herndon | VT | SG
Planet Technologies, Inc | Planet Technologies, Inc | Germantown | MD | MG
Platform Systems, Inc | Platform Aerospace | Hollywood | MD | MG
PLEXSYS Interface Products, Inc |  | Camas | WA | MG
Ploutocracy, Inc |  | Santa Clara | CA | SG
Powell Strategies, LLC |  | Annapolis | MD | SG
Precise Systems, Inc | Precise Systems | Lexington Park | MD | LG
Princeton Plasma Physics Laboratory |  | Princeton | NJ | LG
Priority 1 Air Rescue Operations Arizona LP | Priority 1 Air Rescue or P1AR | Mesa | AZ | SG
Professional Contract Services, Inc. (PCSI) | N/A | Austin | TX | LP
Professional Solutions Delivered, LLC |  | King George | VT | MP
Programatics LLC |  | Alexandria | VT | SP
Project Management Professional Services Corporation | The PMO Squad | Gilbert | AZ | SP
Promising People Enterprises, LLC |  | Maitland | FL | SG
Property & Environmental Management, Inc |  | Columbus | OH | SP
Proteum Energy, LLC |  | Phoenix | AZ | SG
Provalus | Optomi, LLC | Atlanta | GA | MP
Puget Sound Energy |  | Bellevue | WA | LG
QB Medical, Inc |  | Chula Vista | CA | SG
Quadrint, Inc |  | Falls Church | VT | MG
Qualis Corporation |  | Huntsville | AL | MP
Quality Cable Installers LLC |  | Houston | TX | SP
Quecon, Inc |  | Front Royal | VT | SG
Quick Services LLC | QSL | Fayetteville | NC | MP
Quiet Professionals LLC |  | Tampa | FL | MP
Quince Medical & Surgical LLC |  | Pine Brook | NJ | SG
R3 Strategic Support Group, Inc | R3 Strategic Support Group, Inc | Coronado | CA | MP
RADKIN | RADKIN | Houston | TX | MG
Rapid Cycle Solutions |  | Nokesville | VT | SG
Raytheon Technologies |  | Waltham | MA | LP
RBR-Technologies |  | Odenton | MD | MG
Readyop Communications Inc |  | Boca Raton | FL | SG
RealTime, LLC |  | Dothan | AL | SG
Redsky LLC |  | Aldie | VT | SP
RELI Group Inc |  | Catonsville | MD | LP
Reliability & Performance Technologies, LLC | R&P Technologies | Dublin | PA | MG
RELYANT Global LLC | RELYANT Global, LLC | Maryville | TN | MG
Renaissance Global Services LLC |  | Holmdel | NJ | SP
RENCON LLC | RENCON Door & Glass | Chesapeake | VT | SG
Research and Development Solutions, Inc. (RDSI) | RDSI | Pawcatuck | CT | MG
Resolute ISR, Inc | Resolute ISR, Inc | Carson City | NV | SG
RESULTS Technology, INC | RESULTS Technology, INC | Overland Park | KS | SG
Revolution National Pest Council |  | Carson | CA | SP
RF Logistics LLC |  | Carlsbad | CA | MP
Ricardo Defense, Inc | Ricardo Defense | Troy | MI | MG
RICHARD GROUP LLC | RICHARD GROUP LLC | Glenview | IL | SG
Ridgeline International |  | Tysons | VT | MG
RightDirection Technology Solutions LLC | RDTS | Baltimore | MD | MP
Risk3sixty LLC |  | Roswell | GA | SP
Rite Way Heating, Cooling & Plumbing | RiteWay Heating, Cooling & Plumbing | Tucson | AZ | SG
Rite-Solutions, Inc |  | Middletown | RI | MP
Road Warrior Logistics LLC |  | Modesto | CA | SG
Robert Prosser | National Grid Solutions llc | Cypress | CA | SG
Rock Project Management Services, L.L.C |  | Renton | WA | SP
rockITdata |  | Philadelphia | PA | SP
Rocky Mountain Hydrostatics LLC |  | Brighton | CO | SP
Rolston Information Systems Assurance | RISA | Lutz | FL | SG
Roseburg Urban Sanitary Authority |  | Roseburg | OR | SP
RTI Consulting, LLC | RTI Consulting, LLC | Marshall | VT | SG
Rubicon Technical Services LLC |  | Kennesaw | GA | MP
Ruchman and Assoociates, Inc |  | Nottingham | MD | MG
S.B, Inc | Sherman Bros. Heavy Trucking | Harrisburg | OR | MP
Sabre Systems, Inc |  | Warminster | PA | MG
SAF, Inc |  | Akron | OH | SG
Safe Foods Corporation |  | North Little Rock | AR | MG
SAFE Project | SAFE Project | Arlington | VT | SP
Safespill |  | Houston | TX | SP
Saliense Consulting |  | Tysons | VT | MG
Salute Mission Critical | Salute Mission Critical | Clinton TWP | MI | MP
Sancorp Consulting, LLC | Sancorp Consulting LLC | Falls Church | VT | SP
Sandia National Laboratories |  | Albuquerque | NM | LP
Satcom Direct, Inc |  | Melbourne | FL | MP
scDataCom LLC |  | Savannah | GA | SP
Science Applications International Corporation | SAIC | Reston | VT | LG
Science Systems and Applications, Inc |  | Lanham | MD | LG
SDV Command Source, Inc |  | Winston-Salem | NC | SP
SDV Construction, Inc |  | Albuquerque | NM | SG
SEACORP, LLC |  | Middletown | RI | MG
Sealing Technologies, Inc |  | Columbia | MD | MG
SecureStrux, LLC | SecureStrux | Lancaster | PA | SG
Security 1 Solutions, LLC |  | Gaithersburg | MD | MG
Semper Fi Doorman | Semper Fi Doorman | Chicago | IL | SG
Semper Valens Solutions, Inc |  | Canyon Lake | TX | MP
Senspex, Inc |  | Rio Rancho | NM | SG
Sentar, Inc | Sentar, Inc | Huntsville | AL | MG
Sentinels of Freedom Scholarship Foundation |  | San Ramon | CA | SP
ServiceSource | ServiceSource, Inc | Oakton | VT | LG
Sevan Multi-Site Solutions, Inc |  | Downers Grove | IL | MP
Sharp Decisions, Inc | Sharp Decisions, Inc | New York | NY | MG
Shearer & Associates, Inc |  | Huntsville | AL | SP
Shen Te Enterprises Incorporated |  | Tulsa | OK | SG
Shine Systems LLC | Shine Enterprises LLC | Charlottesville | VT | SG
Short Powerline Service, LLC |  | Glenrock | WY | SG
SHOTSTOP BALLISTICS LLC |  | Stow | OH | SG
Sierra Management and Technologies, Inc |  | California | MD | MG
Silotech Group, Inc |  | San Antonio | TX | MP
SIMCO Electronics | N/A | Santa Clara | CA | MG
Simulation Technologies, Inc. (SimTech) |  | Huntsville | AL | MG
SimVentions, Inc |  | Fredericksburg | VT | MP
SixGen, Inc |  | Annapolis | MD | MG
SkillStorm Commercial Services LLC |  | Jacksonville | FL | MP
Sky Climber Wind Solutions, LLC | Sky Climber Renewables | Delaware | OH | LG
SkyBridge Tactical, LLC |  | Tampa | FL | MG
SMART Local #46 JATC |  | Rochester | NY | MP
Smoothstack, Inc |  | McLean | VT | MG
SNVC, LC | N/A | Herndon | VT | SP
SoCal Airflow Pros | Tactical Air Inc | Rancho Santa Margarita | CA | SP
Sodexo Government East |  | Jacksonville | NC | MP
SOF Intelligence Solutions, LLC |  | Alexandria | VT | SG
Solutions for Information Design, LLC | SOLID | Fairfax Station | VT | SP
Sonalysts |  | Waterford | CT | MP
South Carolina Vocations & Individual Advancement, Inc | South Carolina Vocations & Individual Advancement, Inc | Greenville | SC | SG
South Central Workforce Development Board |  | Bowling Green | KY | SP
Southern California Precision Concrete, Inc | Precision Concrete Cutting | Escondido | CA | SG
Southern Company |  | Atlanta | GA | LG
Spartan Construction Services, Inc |  | Beaver Falls | PA | SG
Spathe Systems |  | Tampa | FL | MP
Spectral Labs Incorporated | Spectral Labs Incorporated | San Diego | CA | SG
Spees LLC | Spees Design Build | Burien | WA | SP
Spezio Property Services, Inc |  | Rochester | NY | SG
Spin Systems, Inc | Spin Systems, Inc | Falls Church | VT | MP
ST CLAIR & CO |  | Ypsilanti | MI | SG
Stateline Home Services LLC | Stateline Gutters | Kingsland | GA | SG
Stellar Solutions, Inc |  | Palo Alto | CA | SG
Still Serving Veterans | SSV | Huntsville | AL | SP
Storm Development Services LLC |  | Las Vegas | NV | SG
STR |  | Woburn | MA | LG
StraCon Services Group, LLC |  | Fort Worth | TX | MG
Strata-G, LLC | Strata-G | Knoxville | TN | MP
Strategic Alliance Business Group |  | Fairfax | VT | MP
Strategic Medical Equipment Solutions, LLC |  | Monument | CO | SG
Strategic Staffing Solutions | Strategic Staffing Solutions | Detroit | MI | MP
Sumaria Systems LLC |  | Danvers | MA | MG
Summit Aviation, Inc |  | Middletown | DE | MP
Summit Technical Solutions, LLC |  | Colorado Springs | CO | SP
Sunbelt Rentals |  | Fort Mill | SC | LG
Support The Enlisted Project, Inc | STEP | San Diego | CA | SG
Survival Systems USA, Inc |  | Groton | CT | SG
Synack, Inc |  | Redwood City | CA | MG
Syndetix |  | Las Cruces | NM | SG
Synergy ECP LLC | Synergy ECP | Columbia | MD | MP
Synergy PT & Athletic Performance |  | Prince George | VT | SG
Syntelligent Analytic Solutions, LLC | Syntelligent Analytic Solutions, LLC | Falls Church | VT | MP
Sysco Houston |  | Houston | TX | LG
Sysmex America Inc | Sysmex America Inc | Lincolnshire | IL | LG
System Studies & Simulation, Inc |  | Huntsville | AL | MP
Systems Planning and Analysis, Inc |  | Alexandria | VT | LG
Systems Products and Solutions, Inc |  | Huntsville | AL | MG
T and T Consulting Services, Inc |  | Falls Church | VT | MP
TAC Industries Inc |  | Springfield | OH | SG
Tactical Engineering & Analysis, Inc |  | San Diego | CA | MG
Tactical Rehabilitation |  | Vero Beach | FL | SG
Tactical Training Center, LLC | TTC, LLC | Flemington | NJ | SG
Talentscale, Inc |  | Las Vegas | NV | MG
Tangent Technologies, LLC |  | McLean | VT | SG
Target Media Mid Atlantic, Inc | Target Systems | Mechanicsburg | PA | MG
TBL TECH NERDS |  | Boulder | CO | SG
TCI | TCI | Commerce | CA | LG
Team Carney, Inc |  | Alexandria | VT | MP
Team Cymru, Inc |  | Lake Mary | FL | MG
Tech62 Inc | Tech62 | Fairfax | VT | SG
Technology Learning Group, Inc | TLG Learning | Bellevue | WA | SG
Technology Security Associates, Inc | TSA | California | MD | MG
TechSmart |  | Seattle | WA | SG
TEL U.S. Holdings, Inc |  | Austin | TX | LP
Tele-Consutants, Inc |  | Alpharetta | GA | SG
Tenova LLC | HireMilitary | Fairfax | VT | SG
Tetrad Digital Integrity, LLC |  | Washington | DC | MP
Textron Systems Corporation | Air Systems, Land Systems, Sea Systems, Weapon Systems, Howe & Howe, Lycoming, ATAC | Hunt Valley | MD | LG
The Arbinger Institute, LLC | The Arbinger Institute | Farmington | UT | MG
The Boeing Company | The Boeing Company | Chicago | IL | LP
The Electronic On-Ramp Inc | EOR | Rockville | MD | SP
The Emfield Team—Realtypath |  | Pleasant Grove | UT | SG
The Greentree Group |  | Beavercreek | OH | SP
The HABITS group LLC |  | Austin | TX | SG
THE INFORMATICS APPLICATIONS GROUP, INC | TIAG | Reston | VT | MP
The Metamorphosis Group, Inc |  | Vienna | VT | SG
The Rockhill Group, Inc |  | Molino | FL | MG
The RockWood Group Inc | The RockWood Group INC | Athens | AL | SG
The Ross Group Construction Corporation | Ross Group | Tulsa | OK | MG
The W.W. Williams Company, LLC |  | Dublin | OH | LG
Thermo Systems LLC |  | East Windsor | NJ | MG
Third Generation Painting Co |  | Eugene | OR | SG
Thomas Solutions Incorporated |  | Alexandria | VT | SP
Thompson Metal Fab, Inc |  | Vancouver | WA | MG
Three Way Plumbing Services |  | Concord | NC | SG
Tidewater Emergency Medical Services Council, Inc | Tidewater EMS Council | Chesapeake | VT | SP
TISTA Science and Technology |  | Rockville | MD | LG
Titan Associates Group, Inc | Titan Associated Group, Inc | Athens | TN | SG
Titan University, LLC | Titan University | Orlando | FL | SG
Titan, Consultants & Engineers, LLC | Titan | Orlando | FL | SP
TM3 Solutions, Inc | TM3 Solutions, Inc | Alexandria | VT | SG
TMC Design | TMC Design a LinQuest Company | Las Cruces | NM | MP
Topsarge Business Solutions |  | Temple | TX | SP
Torden LLC | Torden LLC | Tiverton | RI | MP
Tosti Insurance Agency LLC |  | North Attleboro | MA | SG
Trade Training Company | Sonoran Desert Institute | Tempe | AZ | MG
Training, Rehabilitation & Development Institute, Inc |  | San Antonio | TX | MG
Transmission Distribution Service | TDS Construction | Glenrock | WY | SG
TRECIG LLC | Veganish Cafe, Rylee Rucker Investments | Rockwall | TX | SP
Trewon Technologies, LLC |  | Stafford | VT | SP
TRI Industries NFP |  | Ottawa | IL | SG
TRIAEM, LLC |  | Sterling | VT | SP
TRIDENT 11 LLC |  | Tulsa | OK | SG
Trident Technologies and Consulting—Global, LLC | T2C-Global | Wesley Chapel | FL | SG
Trimat Materials Testing, Inc |  | Durham | NC | SG
Trinity Information Technology LLC |  | Yardley | PA | SG
Tripple D Trucking LLC |  | Chicago | IL | SG
TriWest Healthcare Alliance |  | Phoenix | AZ | LP
Trotter Industries, LLC | Trotter Electrical Contractors | Schwenksville | PA | SG
Trotter Management Services |  | Schwenksville | PA | SG
Trusted Internet, LLC |  | New Boston | NH | SG
TruWeather Solutions, Inc |  | Syracuse | NY | SP
U.S. Vet General Contracting, LLC | U.S. Vet General Contracting, LLC | Mcfarland | WI | SG
UBC MVP—Military Veteran Program | UBC—Local 2232 | Killeen | TX | SG
Unicoi County Emergency Medical Services |  | Erwin | TN | SG
Unified Fields, Inc |  | Pittsburgh | PA | SG
United One Communications, LLC |  | Tampa | FL | SG
United Rentals Inc |  | Stamford | CT | LG
United Veterans Construction and Landscape Solutions, Inc | United Veterans Construction and Landscape Solution | Fort Worth | TX | SP
Universal Strategy Group, Inc. (USGI) | Universal Strategy Group, Inc (USGI) | Franklin | TN | MG
Universal Thin Film Lab Corporation |  | Newburgh | NY | SG
Unmanned Systems Incorporated | Albers Aerospace | McKinney | TX | MP
Upstate Warrior Solution |  | Greenville | SC | SP
US Communications & Electric, Inc |  | Garfield Heights | OH | MG
USA Environmental, Inc |  | Oldsmar | FL | MG
USAA |  | San Antonio | TX | LG
USfalcon, Inc | USfalcon, Inc | Cary | NC | MG
Utility Lines Construction Services |  | Bridgeville | DE | MG
Utility Mapping Services, P.C |  | Clancy | MT | SG
VA Wholesale Mortgage |  | Virginia Beach | VT | SP
Vantage Point Consulting, Inc |  | Reston | VT | SG
Vascular Center of Orlando, PA | Vascular Vein Centers | Orlando | FL | SG
VAUDRA LTD | Vaudra International | Huntersville | NC | SG
Vaultes, LLC | Vaultes | Reston | VT | SG
Vector Force Development | Vector Force Development | Collinsville | IL | MP
VectorCSP |  | Elizabeth City | NC | MP
Vengroff Williams, Inc |  | Sarasota | FL | MG
Ventas Consulting, LLC |  | Friso | TX | SP
Veracity Technology Solutions, LLC |  | Pensacola | FL | SG
Verizon |  | Basking Ridge | NJ | LG
Veteran Engineering and Technology, LLC | none | Colorado Springs | CO | SP
Veterans Alliance |  | Stateline | NV | SG
Veterans Assembled electronics | STRAC INSTITUTE | Providence | RI | SP
Veterans Elite Services LLC |  | Jacksonville | FL | SP
Veterans Enterprise Technology Solutions, Inc | VETS, Inc | Clarksville | VT | MG
Veterans Guardian VA Claim Consulting |  | Pinehurst | NC | MP
Veterans Inc | Veterans Inc | Worcester | MA | MP
Veterans Insurance Agency Inc |  | Florham Park Borough | NJ | SG
Veterans Leadership Program of Western Pennsylvania, Inc | Veterans Leadership Program | Pittsburgh | PA | MG
Veterans Management Services, Inc |  | Sterling | VT | MP
Veterans Outreach Center, Inc |  | Rochester | NY | SG
Veterans Place of Washington Boulevard |  | Pittsburgh | PA | SP
Vetlink Solutions |  | Surprise | AZ | SP
ViaPath Technologies | Global Tel-Link | Falls Church | VT | LP
Viasat, Inc |  | Carlsbad | CA | LG
Victory Solutions, Inc |  | Huntsville | AL | MP
Village of Hanover Park |  | Hanover Park | IL | MG
Virtual Service Operations | VSO | Nokesville | VT | MP
VISTA Technology Services, Inc |  | Arlington | VT | MG
Vulcan, Inc |  | Foley | AL | MG
W R Systems, Ltd |  | Fairfax | VT | MG
Ward Circle Strategies, Inc |  | Washington | DC | SG
Warfeather |  | Coweta | OK | SP
Warrior Service Company LLC |  | Hialeah | FL | MG
Warriors Heart Healing Center | Warriors Heart | Bandera | TX | MG
Waterdogs SCUBA and Safety LLC |  | Clarksville | TN | SG
Watermark Risk Management International, LLC |  | Triangle | VT | MG
Watershed Security, LLC | Watershed Security, LLC | Chesapeake | VT | SP
Web Business Solutions, Inc |  | Fredericksburg | VT | SG
Westerwood Global USA Corporation |  | Malta | NY | MG
Westinghouse Electric Company, LLC |  | Cranberry Township | PA | LG
Westwind Computer Products, Inc | Westwind Computer Products, Inc | Albuquerque | NM | MG
White Birch Ammo, LLC | White Birch Armory | Dover | NH | SP
William C Brown Inc |  | Manassas | VT | SP
Williams Creek Management Corporation |  | Plainfield | IN | SG
Willis Mechanical, Inc |  | Norcross | GA | SP
Windstream Holdings |  | Little Rock | AR | LP
Women In Military Service For America Memorial Foundation, Inc | Military Women's Memorial | Arlington | VT | SP
Workforce Development Board of the Treasure Coast | CareerSource Research Coast | Port St. Lucie | FL | SG
Worldwide Counter Threat Solutions | N/A | Fredericksburg | VT | SG
Wounded Warrior Project |  | Jacksonville | FL | LP
WPS Labor, LLC | WPS Labor, LLC | Rogers | AR | SG
WWC Global | WWC Global | Tampa | FL | MG
Xcel Energy |  | Minneapolis | MN | LG
Xenith Solutions |  | Reston | VT | SP
Your Recruiting Company Inc |  | Fairfax | VT | MG
Zeido Technologies, LLC |  | Gainesville | VT | SG
Zekiah Technologies, Inc |  | La Plata | MD | SP
ZENDEV & Co, LLC | ZENDEV | Mesa | AZ | SP
Zero Point, Incorporated |  | Virginia Beach | VT | MP

Dated: November 14, 2023.
James D. Rodriguez,
Assistant Secretary, Veterans' Employment and Training Service.

[FR Doc. 2023-25563 Filed 11-22-23; 8:45 am]

BILLING CODE 4510-79-P